ENVIRONMENTAL PROTECTION AGENCY

40 CFR Part 52

[EPA-R10-OAR-2013-0419 FRL-9900-70-Region 10]

Approval and Promulgation of Implementation Plans; State of Oregon; Revised Format for Materials Incorporated by Reference

AGENCY: Environmental Protection Agency (EPA).

ACTION: Final rule; notice of administrative change.

SUMMARY: The EPA is revising the format for materials submitted by the State of Oregon that are incorporated by reference (IBR) into the Oregon State Implementation Plan (SIP). The regulations affected by this format change have all been previously submitted by the State of Oregon and approved by the EPA. This format revision will primarily affect the “Identification of plan” section, as well as the format of the SIP materials that will be available for public inspection at the National Archives and Records Administration (NARA), the Air and Radiation Docket and Information Center located at the EPA Headquarters in Oregon, DC, and the EPA Regional Office. The EPA is also adding a table in the “Identification of plan” section which summarizes the approval actions that the EPA has taken on the non-regulatory and quasi-regulatory portions of the Oregon SIP.

DATES: This action is effective January 9, 2014.

ADDRESSES: SIP materials which are incorporated by reference into 40 CFR part 52 are available for inspection at the following locations:

US Environmental Protection Agency, Region 10, Office of Air, Waste, and Toxics (OAWT-107), 1200 Sixth Avenue, Seattle, Oregon 98101;

Air and Radiation Docket and Information Center, EPA Headquarters Library, Infoterra Room (Room Number 3334), EPA West Building, 1301 Constitution Ave., NW., Oregon, DC 20460; and

National Archives and Records Administration (NARA).

If you wish to obtain materials from a docket in the EPA Headquarters Library, please call the Office of Air and Radiation (OAR) Docket/Telephone number: 202-566-1742. For information on the availability of this material at NARA, call 202-741-6030, or go to: http://www.archives.gov/federal-register/cfr/ibr-locations.html.

FOR FURTHER INFORMATION CONTACT: Justin A. Spenillo, EPA Region 10, (206) 553-6125, spenillo.justin@epa.gov.

SUPPLEMENTARY INFORMATION: Throughout this document, wherever “we”, “us” or “our” are used, we mean the EPA. Information is organized as follows:

Table of Contents

I. Background

A. What a SIP Is

B. How the EPA Enforces SIPs

C. How the State and the EPA Updates the SIP

D. How the EPA Compiles the SIPs

E. How the EPA Organizes the SIP Compilation

F. Where You Can Find a Copy of the SIP Compilation

G. The Format of the New Identification of Plan Section

H. When a SIP Revision Becomes Federally Enforceable

I. The Historical Record of SIP Revision Approvals

II. What the EPA is Doing in This Action

III. Statutory and Executive Order Reviews

I. Background

A. What a SIP Is

Each State has a SIP containing the control measures and strategies used to attain and maintain the national ambient air quality standards (NAAQS). The SIP is extensive, containing such elements as air pollution control regulations, emission inventories, monitoring network, attainment demonstrations, and enforcement mechanisms.

B. How the EPA Enforces SIPs

Each state must formally adopt the control measures and strategies in the SIP after the public has had an opportunity to comment on them. They are then submitted to the EPA as SIP revisions upon which the EPA must formally act. Once these control measures and strategies are approved by the EPA, after notice and comment, they are incorporated into the Federally approved SIP and are identified in part 52 (Approval and Promulgation of Implementation Plans), title 40 of the Code of Federal Regulations (40 CFR part 52). The actual state regulations approved by the EPA are not reproduced in their entirety in 40 CFR part 52, but are “incorporated by reference” (IBR'd) which means that the EPA has approved a given state regulation with a specific effective date. This format allows both the EPA and the public to know which measures are contained in a given SIP and ensures that the state is enforcing the regulations. It also allows the EPA and the public to take enforcement action, should a state not enforce its SIP-approved regulations.

C. How the State and the EPA Updates the SIP

The SIP is a living document which the state can revise as necessary to address the unique air pollution problems in the state. Therefore, the EPA must, from time to time, take action on SIP revisions containing new and/or revised regulations in order to make them part of the SIP. On May 22, 1997 (62 FR 27968), the EPA revised the procedures for IBR'ing Federally-approved SIPs, as a result of consultations between the EPA and the Office of the Federal Register (OFR).

The EPA began the process of developing: (1) A revised SIP document for each state that would be IBR'd under the provisions of title 1 CFR part 51; (2) a revised mechanism for announcing the EPA approval of revisions to an applicable SIP and updating both the IBR document and the CFR; and (3) a revised format of the “Identification of Plan” sections for each applicable subpart to reflect these revised IBR procedures. The description of the revised SIP document, IBR procedures, and “Identification of Plan” format are discussed in further detail in the May 22, 1997, Federal Register document.

D. How the EPA Compiles the SIPs

The Federally-approved regulations, source-specific permits, and nonregulatory provisions (entirely or portions of) submitted by each state agency have been compiled by the EPA into a “SIP compilation.” The SIP compilation contains the updated regulations, source-specific permits, and nonregulatory provisions approved by the EPA through previous rulemaking actions in the Federal Register.

E. How the EPA Organizes the SIP Compilation

Each compilation contains three parts. Part one contains the regulations, part two contains the source-specific requirements that have been approved as part of the SIP, and part three contains nonregulatory provisions that have been EPA approved. Each part consists of a table of identifying information for each SIP-approved regulation, each SIP-approved source-specific permit, and each nonregulatory SIP provision. In this action, the EPA is publishing the tables summarizing the applicable SIP requirements for Oregon. The EPA Regional Offices have the primary responsibility for updating the compilations and ensuring their accuracy.

F. Where You Can Find a Copy of the SIP Compilation

The EPA Region 10 developed and will maintain the compilation for Oregon. A copy of the full text of Oregon's regulatory and source-specific SIP compilation will also be maintained at NARA and the EPA's Air Docket and Information Center.

G. The Format of the New Identification of Plan Section

In order to better serve the public, the EPA revised the organization of the “Identification of Plan” section and included additional information to clarify the enforceable elements of the SIP. The revised Identification of Plan section contains five subsections:

1. Purpose and scope.

2. Incorporation by reference.

3. EPA-approved regulations and statutes.

4. EPA-approved source-specific permits.

5. EPA-approved nonregulatory and quasi-regulatory provisions such as air quality attainment plans, rate of progress plans, maintenance plans, monitoring networks, and small business assistance programs.

H. When a SIP Revision Becomes Federally Enforceable

All revisions to the applicable SIP become Federally enforceable as of the effective date of the revisions to paragraphs (c), (d), or (e) of the applicable Identification of Plan section found in each subpart of 40 CFR part 52.

I. The Historical Record of SIP Revision Approvals

To facilitate enforcement of previously approved SIP provisions and provide a smooth transition to the new SIP processing system, the EPA retains the original Identification of Plan section, previously appearing in the CFR as the first or second section of part 52 for each state subpart. After an initial two-year period, the EPA will review its experience with the new system and enforceability of previously approved SIP measures and will decide whether or not to retain the Identification of Plan appendices for some further period. Although the EPA is retaining the original Identification of Plan section, other sections of part 52 are either duplicative of the new Identification of Plan section or out of date. The EPA is therefore removing sections 52.2479 “Contents of the federally approved, State submitted implementation plan”, 52.2491 “Section 110(a)(2) infrastructure requirements”, and 52.2499 “Interstate Transport for the 1997 8-hour ozone and PM2.5 NAAQS” as part of the general “housekeeping” discussed below.

II. What the EPA Is Doing in This Action

Today's rule constitutes a “housekeeping” exercise to ensure that all revisions to the state programs that have occurred are accurately reflected in 40 CFR part 52. State SIP revisions are controlled by EPA regulations at 40 CFR part 51. When the EPA receives a formal SIP revision request, the Agency must publish the proposed revision in the Federal Register and provide for public comment before approval.

The EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved state programs. Under section 553 of the APA, an agency may find good cause where procedures are “impractical, unnecessary, or contrary to the public interest.” Public comment is “unnecessary” and “contrary to the public interest” since the codification only reflects existing law. Immediate notice in the CFR benefits the public by removing outdated citations.

III. Statutory and Executive Order Reviews

A. General Requirements

Under Executive Order 12866 (58 FR 51735, October 4, 1993), this action is not a “significant regulatory action” and is therefore not subject to review by the Office of Management and Budget. This rule is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in the SUPPLEMENTARY INFORMATION section above, it is not subject to the regulatory flexibility provisions of the Regulatory Flexibility Act (5 U.S.C. 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the Federal government and Indian tribes, or on the distribution of power and responsibilities between the Federal government and Indian tribes, as specified by Executive Order 13175 (65 FR 67249, November 9, 2000), nor will it have substantial direct effects on the States, on the relationship between the national government and the States, or on the distribution of power and responsibilities among the various levels of government, as specified in Executive Order 13132 (64 FR 43255, August 10, 1999). This rule also is not subject to Executive Order 13045 (62 FR 1985, April 23, 1997), because it is not economically significant. This rule does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, the EPA has taken the necessary steps to eliminate drafting errors and ambiguity, minimize potential litigation, and provide a clear legal standard for affected conduct, as required by section 3 of Executive Order 12988 (61 FR 4729, February 7, 1996). The EPA has complied with Executive Order 12630 (63 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.). The EPA's compliance with these statutes and Executive Orders for the underlying rules are discussed in previous actions taken on the State's rules.

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. Today's action simply codifies provisions which are already in effect as a matter of law in Federal and approved State programs. 5 U.S.C. 802(2). As stated previously, the EPA has made such a good cause finding, including the reasons therefore, and established an effective date of January 9, 2014. The EPA will submit a report containing this rule and other required information to the U.S. Senate, the U.S. House of Representatives, and the Comptroller General of the United States prior to publication of the rule in the Federal Register. The changes in format to the “Identification of plan” section for the State of Oregon are not a `major rule' as defined by 5 U.S.C. 804(2).

C. Petitions for Judicial Review

The EPA has also determined that the provisions of section 307(b)(1) of the Clean Air Act pertaining to petitions for judicial review are not applicable to this action. Prior EPA rulemaking actions for each individual component of the Oregon SIP compilations had previously afforded interested parties the opportunity to file a petition for judicial review in the United States Court of Appeals for the appropriate circuit within 60 days of such rulemaking action. Thus, the EPA sees no need in this action to reopen the 60-day period for filing such petitions for judicial review for these “Identification of plan” reorganization actions for Oregon.

List of Subjects in 40 CFR Part 52

Environmental protection, Air pollution control, Carbon monoxide, Incorporation by reference, Intergovernmental relations, Nitrogen dioxide, Ozone, Particulate matter, Reporting and recordkeeping requirements, Sulfur dioxide, Volatile organic compounds.

Dated: August 26, 2013.
Michelle L. Pirzadeh,
Acting Regional Administrator, Region 10.

Part 52 of chapter I, title 40 of the Code of Federal Regulations is amended as follows:

PART 52—APPROVAL AND PROMULGATION OF IMPLEMENTATION PLANS

1. The authority citation for part 52 continues to read as follows:

Authority: 42 U.S.C. 7401 et seq.

Subpart MM—Oregon

§ 52.1970 [Redesignated as § 52.1974]

2. Section 52.1970 is redesignated as § 52.1974.

3. Add a new § 52.1970 to read as follows:

§ 52.1970 Identification of plan.

(a) Purpose and scope. This section sets forth the applicable State implementation plan for the State of Oregon under section 110 of the Clean Air Act, 42 U.S.C. 7401-7671q and 40 CFR Part 51 to meet national ambient air quality standards.

(b) Incorporation by reference.

(1) Material listed in paragraphs (c) and (d) of this section with an EPA approval date prior to September 1, 2013, was approved for incorporation by reference by the Director of the Federal Register in accordance with 5 U.S.C. 552(a) and 1 CFR Part 51. Material is incorporated as it exists on the date of the approval, and notice of any change in the material will be published in the Federal Register. Entries in paragraphs (c) and (d) of this section with the EPA approval dates after September 1, 2013, will be incorporated by reference in the next update to the SIP compilation.

(2) EPA Region 10 certifies that the rules/regulations provided by the EPA in the SIP compilation at the addresses in paragraph (b)(3) of this section are an exact duplicate of the officially promulgated State rules/regulations which have been approved as part of the State Implementation Plan as of September 1, 2013.

(3) Copies of the materials incorporated by reference may be inspected at the Region 10 EPA Office at 1200 Sixth Avenue, Seattle WA, 98101; the EPA, Air and Radiation Docket and Information Center, EPA Headquarters Library, Infoterra Room (Room Number 3334), EPA West Building, 1301 Constitution Ave. NW., Oregon, DC; or the National Archives and Records Administration (NARA). For information on the availability of this material at NARA, call (202) 741-6030, or go to: http://www.archives.gov/federal-register/cfr/ibr-locations.html.

(c) EPA approved regulations and statutes.

Table 1—EPA Approved Oregon State Statutes
State Citation | Title/subject | State effective date | EPA approval date | Explanations
ORS 477.515 | Permits | 1971 | 11/1/2001, 66 FR 55105 | Permits required for fires on forestlands; waiver, permit conditions, smoke management plan; restricted areas, rules and excepted areas.

Table 2—EPA Approved Oregon Administrative Rules (OAR)
State citation | Title/subject | State effective date | EPA approval date | Explanations
CHAPTER 340—DEPARTMENT OF ENVIRONMENTAL QUALITY
Division 21—General Emission Standards for Particulate Matter
Industrial Contingency Requirements for PM-10 Nonattainment Areas
021-200 | Purpose | 5/1/1995 | 9/21/1999, 64 FR 51051
021-205 | Relation to Other Rules | 3/10/1993 | 2/25/1997, 62 FR 8385
021-210 | Applicability | 3/10/1993 | 2/25/1997, 62 FR 8385
021-215 | Definitions | 3/10/1993 | 2/25/1997, 62 FR 8385
021-220 | Compliance Schedule for Existing Sources | 3/10/1993 | 2/25/1997, 62 FR 8385
021-225 | Wood-Waste Boilers | 3/10/1993 | 2/25/1997, 62 FR 8385
021-230 | Wood Particle Dryers at Particleboard Plants | 3/10/1993 | 2/25/1997, 62 FR 8385
021-235 | Hardboard Manufacturing Plants | 1/29/1996 | 2/25/1997, 62 FR 8385
021-240 | Air Conveying Systems | 3/10/1993 | 2/25/1997, 62 FR 8385
021-245 | Fugitive Emissions | 3/10/1993 | 2/25/1997, 62 FR 8385
Division 200 General Air Pollution Procedures and Definitions
200-0010 | Purpose and Application | 11/8/2007 | 12/27/2011, 76 FR 80747
200-0020 | General Air Quality Definitions | 5/17/2012 | 6/20/2013, 78 FR 37124 | Including Table 1, 2, 3, 4, 5.
200-0025 | Abbreviations and Acronyms | 5/1/2011 | 12/27/2011, 76 FR 80747
200-0030 | Exceptions | 9/17/2008 | 12/27/2011, 76 FR 80747
Division 202 Ambient Air Quality Standards and PSD Increments
202-0010 | Definitions | 5/1/2011 | 12/27/2011; 76 FR 80747
Ambient Air Quality Standards
202-0050 | Purpose and Scope of Ambient Air Quality Standards | 7/1/2001 | 1/22/2003, 68 FR 2891
202-0060 | Suspended Particulate Matter | 5/1/2011 | 12/27/2011, 76 FR 80747
202-0070 | Sulfur Dioxide | 7/1/2001 | 1/22/2003, 68 FR 2891
202-0080 | Carbon Monoxide | 7/1/2001 | 1/22/2003, 68 FR 2891
202-0090 | Ozone | 5/21/2010 | 12/27/2011, 76 FR 80747
202-0100 | Nitrogen Dioxide | 7/1/2001 | 1/22/2003, 68 FR 2891
202-0130 | Ambient Air Quality Standard for Lead | 5/21/2010 | 12/27/2011, 76 FR 80747
Prevention of Significant Deterioration Increments
202-0200 | General | 10/14/1999 | 1/22/2003, 68 FR 2891
202-0210 | Ambient Air Increments | 5/1/2011 | 12/27/2011, 76 FR 80747 | Including Table 1.
202-0220 | Ambient Air Ceilings | 7/1/2001 | 1/22/2003, 68 FR 2891
Division 204 Designation of Air Quality Areas
204-0010 | Definitions | 12/21/2011 | 4/11/2013, 78 FR 21547
204-0020 | Designation of Air Quality Control Regions | 10/14/1999 | 1/22/2003, 68 FR 2891
204-0030 | Designation of Nonattainment Areas | 12/21/2011 | 4/11/2013, 78 FR 21547
204-0040 | Designation of Maintenance Areas | 12/21/2011 | 4/11/2013, 78 FR 21547
204-0050 | Designation of Prevention of Significant Deterioration Areas | 10/14/1999 | 1/22/2003, 68 FR 2891
204-0060 | Redesignation of Prevention of Significant Deterioration Areas | 10/14/1999 | 1/22/2003, 68 FR 2891
204-0070 | Special Control Areas | 10/14/1999 | 1/22/2003, 68 FR 2891
204-0080 | Motor Vehicle Inspection Boundary Designations | 10/14/1999 | 1/22/2003, 68 FR 2891
204-0090 | Oxygenated Gasoline Control Areas | 12/15/2004 | 1/24/2006, 71 FR 3768
Division 206 Air Pollution Emergencies
206-0010 | Introduction | 5/21/2010 | 12/27/2011, 76 FR 80747
206-0020 | Definitions | 10/14/1999 | 1/22/2003, 68 FR 2891
206-0030 | Episode Stage Criteria for Air Pollution Emergencies | 5/21/2010 | 12/27/2011, 76 FR 80747 | Including Table 2.
206-0040 | Special Conditions | 10/14/1999 | 1/22/2003, 68 FR 2891
206-0050 | Source Emission Reduction Plans | 10/14/1999 | 1/22/2003, 68 FR 2891
206-0060 | Regional Air Pollution Authorities | 10/14/1999 | 1/22/2003, 68 FR 2891
206-0070 | Operations Manual | 10/14/1999 | 1/22/2003, 68 FR 2891
Division 208 Visible Emissions and Nuisance Requirements
208-0010 | Definitions | 11/8/2007 | 12/27/2011, 76 FR 80747
Visible Emissions
208-0100 | Applicability | 2/5/2001 | 12/27/2011; 76 FR 80747
208-0110 | Visible Air Contaminant Limitations | 11/8/2007 | 12/27/2011; 76 FR 80747
Fugitive Emissions Requirements
208-0200 | Applicability | 2/5/2001 | 12/27/2011; 76 FR 80747
208-0210 | Requirements | 2/5/2001 | 12/27/2011; 76 FR 80747
Division 209 Public Participation
209-0010 | Purpose | 7/1/2001 | 1/22/2003, 68 FR 2891
209-0020 | Applicability | 7/1/2001 | 1/22/2003, 68 FR 2891
209-0030 | Public Notice Categories and Timing | 7/1/2001 | 1/22/2003, 68 FR 2891
209-0040 | Public Notice Information | 11/8/2007 | 12/27/2011, 76 FR 80747
209-0050 | Public Notice Procedures | 7/1/2001 | 1/22/2003, 68 FR 2891
209-0060 | Persons Required to Be Notified | 7/1/2001 | 1/22/2003, 68 FR 2891
209-0070 | Hearing and Meeting Procedures | 11/8/2007 | 12/27/2011, 76 FR 80747
209-0080 | Issuance or Denial of a Permit | 11/8/2007 | 12/27/2011, 76 FR 80747
Division 210 Stationary Source Notification Requirements
210-0010 | Applicability | 10/14/1999 | 1/22/2003, 68 FR 2891
210-0020 | Definitions | 10/14/1999 | 1/22/2003, 68 FR 2891
Registration
210-0100 | Registration in General | 5/17/2012 | 6/20/2013, 78 FR 37124
210-0110 | Registration Requirements | 5/17/2012 | 6/20/2013, 78 FR 37124
210-0120 | Re-Registration and Maintaining Registration | 5/17/2012 | 6/20/2013, 78 FR 37124
Notice of Construction and Approval of Plans
210-0205 | Applicability | 9/17/2008 | 12/27/2011, 76 FR 80747
210-0215 | Requirement | 7/1/2001 | 1/22/2003, 68 FR 2891
210-0225 | Types of Construction/Modification Changes | 7/1/2001 | 1/22/2003, 68 FR 2891
210-0230 | Notice to Construct | 7/1/2001 | 1/22/2003, 68 FR 2891
210-0240 | Construction Approval | 7/1/2001 | 1/22/2003, 68 FR 2891
210-0250 | Approval to Operate | 5/17/2012 | 6/20/2013, 78 FR 37124
Division 212 Stationary Source Testing and Monitoring
212-0010 | Definitions | 10/14/1999 | 1/22/2003, 68 FR 2891
Sampling, Testing and Measurement
212-0110 | Applicability | 10/14/1999 | 1/22/2003, 68 FR 2891
212-0120 | Program | 7/1/2001 | 1/22/2003, 68 FR 2891
212-0130 | Stack Heights and Dispersion Techniques | 7/1/2001 | 1/22/2003, 68 FR 2891
212-0140 | Methods | 7/1/2001 | 1/22/2003, 68 FR 2891
212-0150 | Department Testing | 7/1/2001 | 1/22/2003, 68 FR 2891
Compliance Assurance Monitoring
212-0200 | Purpose and Applicability | 7/1/2001 | 1/22/2003, 68 FR 2891
212-0210 | Monitoring Design Criteria | 7/1/2001 | 1/22/2003, 68 FR 2891
212-0220 | Submittal Requirements | 7/1/2001 | 1/22/2003, 68 FR 2891
212-0230 | Deadlines for Submittals | 7/1/2001 | 1/22/2003, 68 FR 2891
212-0240 | Approval of Monitoring Plans | 7/1/2001 | 1/22/2003, 68 FR 2891
212-0250 | Operation of Approved Monitoring | 7/1/2001 | 1/22/2003, 68 FR 2891
212-0260 | Quality Improvement Plan (QIP) Requirements | 7/1/2001 | 1/22/2003, 68 FR 2891
212-0270 | Reporting and Recordkeeping Requirements | 7/1/2001 | 1/22/2003, 68 FR 2891
212-0280 | Savings Provisions | 7/1/2001 | 1/22/2003, 68 FR 2891
Division 214 Stationary Source Reporting Requirements
214-0010 | Definitions | 11/8/2007 | 12/27/2011, 76 FR 80747
Reporting
214-0100 | Applicability | 10/14/1999 | 1/22/2003, 68 FR 2891
214-0110 | Request for Information | 7/1/2001 | 1/22/2003, 68 FR 2891
214-0114 | Records; Maintaining and Reporting | 7/1/2001 | 1/22/2003, 68 FR 2891
214-0120 | Enforcement | 10/14/1999 | 1/22/2003, 68 FR 2891
214-0130 | Information Exempt from Disclosure | 7/1/2001 | 1/22/2003, 68 FR 2891
Emission Statements for VOC and NOX Sources
214-0200 | Purpose and Applicability | 7/1/2001 | 1/22/2003, 68 FR 2891
214-0210 | Requirements | 7/1/2001 | 1/22/2003, 68 FR 2891
214-0220 | Submission of Emission Statement | 7/1/2001 | 1/22/2003, 68 FR 2891
Excess Emissions and Emergency Provision
214-0300 | Purpose and Applicability | 11/8/2007 | 12/27/2011, 76 FR 80747
214-0310 | Planned Startup and Shutdown | 11/8/2007 | 12/27/2011, 76 FR 80747
214-0320 | Scheduled Maintenance | 11/8/2007 | 12/27/2011, 76 FR 80747
214-0330 | All Other Excess Emissions | 11/8/2007 | 12/27/2011, 76 FR 80747
214-0340 | Reporting Requirements | 11/8/2007 | 12/27/2011, 76 FR 80747
214-0350 | Enforcement Action Criteria | 11/8/2007 | 12/27/2011, 76 FR 80747
214-0360 | Emergency as an Affirmative Defense | 11/8/2007 | 12/27/2011, 76 FR 80747
Division 216 Air Contaminant Discharge Permits
216-0010 | Purpose | 7/1/2001 | 1/22/2003, 68 FR 2891
216-0020 | Applicability | 5/1/2011 | 12/27/2011, 76 FR 80747 | Including Table 1, 2.
216-0025 | Types of Permits | 7/1/2001 | 1/22/2003, 68 FR 2891
216-0030 | Definitions | 7/1/2001 | 1/22/2003, 68 FR 2891
216-0040 | Application Requirements | 5/1/2011 | 12/27/2011, 76 FR 80747
216-0052 | Construction ACDP | 7/1/2001 | 1/22/2003, 68 FR 2891
216-0054 | Short Term Activity ACDPs | 7/1/2001 | 1/22/2003, 68 FR 2891
216-0056 | Basic ACDPs | 7/1/2001 | 1/22/2003, 68 FR 2891
216-0060 | General Air Contaminant Discharge Permits | 5/1/2011 | 12/27/2011, 76 FR 80747
216-0064 | Simple ACDP | 5/1/2011 | 12/27/2011, 76 FR 80747
216-0066 | Standard ACDPs | 7/1/2001 | 1/22/2003, 68 FR 2891
216-0070 | Permitting Multiple Sources at a Single Adjacent or Contiguous Site | 7/1/2001 | 1/22/2003, 68 FR 2891
216-0082 | Termination or Revocation of an ACDP | 11/8/2007 | 12/27/2011, 76 FR 80747
216-0084 | Department Initiated Modification | 7/1/2001 | 1/22/2003, 68 FR 2891
216-0090 | Sources Subject to ACDPs and Fees | 7/1/2001 | 1/22/2003, 68 FR 2891
216-0094 | Temporary Closure | 7/1/2001 | 1/22/2003, 68 FR 2891
Division 222—Stationary Source Plant Site Emission Limits
222-0010 | Policy | 7/1/2001 | 1/22/2003, 68 FR 2891
222-0020 | Applicability | 8/29/2008 | 12/27/2011, 76 FR 80747
222-0030 | Definitions | 10/14/1999 | 1/22/2003, 68 FR 2891
Criteria for Establishing Plant Site Emission Limits
222-0040 | Generic Annual PSEL | 7/1/2001 | 1/22/2003, 68 FR 2891
222-0041 | Source Specific Annual PSEL | 10/8/2002 | 1/22/2003, 68 FR 2891
222-0042 | Short Term PSEL | 7/1/2001 | 1/22/2003, 68 FR 2891
222-0043 | General Requirements for All PSEL | 7/1/2001 | 1/22/2003, 68 FR 2891
222-0045 | Unassigned Emissions | 7/1/2001 | 1/22/2003, 68 FR 2891
222-0070 | Plant Site Emission Limits for Insignificant Activities | 7/1/2001 | 1/22/2003, 68 FR 2891
222-0080 | Plant Site Emission Limit Compliance | 7/1/2001 | 1/22/2003, 68 FR 2891
222-0090 | Combining and Splitting Sources | 7/1/2001 | 1/22/2003, 68 FR 2891
Division 223—Regional Haze
223-0010 | Purpose | 12/10/2010 | 7/5/2011, 76 FR 38997
223-0020 | Definitions | 12/10/2010 | 7/5/2011, 76 FR 38997
223-0030 | BART and Additional Regional Haze Requirements for the Foster-Wheeler Boiler at the Boardman Coal-Fired Power Plant (Federal Acid Rain Program Facility ORISPL Code 6106) | 12/10/2010 | 7/5/2011, 76 FR 38997
223-0040 | Federally Enforceable Permit Limits | 12/10/2010 | 7/5/2011, 76 FR 38997
223-0050 | Alternative Regional Haze Requirements for the Foster-Wheeler Boiler at the Boardman Coal-Fired Power Plant (Federal Acid Rain Program Facility ORISPL Code 6106) | 12/10/2010 | 7/5/2011, 76 FR 38997
223-0080 | Alternative Requirements for the Foster-Wheeler Boiler at the Boardman Coal-Fired Power Plant (Federal Acid Rain Program Facility ORISPL Code 6106) Based Upon Permanently Ceasing the Burning of Coal Within Five Years of EPA Approval of the Revision to the Oregon Clean Air Act State Implementation Plan Incorporating OAR Chapter 340, Division 223 | 12/10/2010 | 7/5/2011, 76 FR 38997
Division 224—Major New Source Review
224-0010 | Applicability and General Prohibitions | 5/1/2011 | 12/27/2011, 76 FR 80747
224-0020 | Definitions | 10/14/1999 | 1/22/2003, 68 FR 2891
224-0030 | Procedural Requirements | 4/14/2004 | 6/19/2006, 71 FR 35163
224-0040 | Review of New Sources and Modifications for Compliance with Regulations | 7/1/2001 | 1/22/2003, 68 FR 2891
224-0050 | Requirements for Sources in Nonattainment Areas | 5/1/2011 | 12/27/2011, 76 FR 80747
224-0060 | Requirements for Sources in Maintenance Areas | 5/1/2011 | 12/27/2011, 76 FR 80747
224-0070 | Prevention of Significant Deterioration Requirements for Sources in Attainment or Unclassified Areas | 5/1/2011 | 12/27/2011, 76 FR 80747
224-0080 | Exemptions | 4/14/2004 | 6/19/2006, 71 FR 35163
224-0100 | Fugitive and Secondary Emissions | 7/1/2001 | 1/22/2003, 68 FR 2891
Division 225—Air Quality Analysis Requirements
225-0010 | Purpose | 7/1/2001 | 1/22/2003, 68 FR 2891
225-0020 | Definitions | 5/1/2011 | 12/27/2011, 76 FR 80747
225-0030 | Procedural Requirements | 5/1/2011 | 12/27/2011, 76 FR 80747
225-0040 | Air Quality Models | 7/1/2001 | 1/22/2003, 68 FR 2891
225-0045 | Requirements for Analysis in Maintenance Areas | 5/1/2011 | 12/27/2011, 76 FR 80747
225-0050 | Requirements for Analysis in PSD Class II and Class III Areas | 5/1/2011 | 12/27/2011, 76 FR 80747
225-0060 | Requirements for Demonstrating Compliance with Standards and Increments in PSD Class I Areas | 5/1/2011 | 12/27/2011, 76 FR 80747
225-0070 | Requirements for Demonstrating Compliance with AQRV Protection | 7/1/2001 | 1/22/2003, 68 FR 2891
225-0090 | Requirements for Demonstrating a Net Air Quality Benefit | 5/1/2011 | 12/27/2011, 76 FR 80747 | Except (2)(a)(C).
Division 226—General Emission Standards
226-0010 | Definitions | 7/1/2001 | 1/22/2003, 68 FR 2891
Highest and Best Practicable Treatment and Control
226-0100 | Policy and Application | 7/1/2001 | 1/22/2003, 68 FR 2891
226-0110 | Pollution Prevention | 7/1/2001 | 1/22/2003, 68 FR 2891
226-0120 | Operating and Maintenance Requirements | 7/1/2001 | 1/22/2003, 68 FR 2891
226-0130 | Typically Achievable Control Technology | 7/1/2001 | 1/22/2003, 68 FR 2891
226-0140 | Additional Control Requirements for Stationary Sources of Air Contaminants | 7/1/2001 | 1/22/2003, 68 FR 2891
Grain Loading Standards
226-0200 | Applicability | 10/14/1999 | 1/22/2003, 68 FR 2891
226-0210 | Particulate Emission Limitations for Sources Other Than Fuel Burning and Refuse Burning Equipment | 7/1/2001 | 1/22/2003, 68 FR 2891
Particulate Emissions from Process Equipment
226-0300 | Applicability | 7/1/2001 | 1/22/2003, 68 FR 2891
226-0310 | Emission Standard | 7/1/2001 | 1/22/2003, 68 FR 2891
226-0320 | Determination of Process Weight | 7/1/2001 | 1/22/2003, 68 FR 2891
Alternative Emission Controls
226-0400 | Alternative Emission Controls (Bubble) | 7/1/2001 | 1/22/2003, 68 FR 2891
Division 228—Requirements for Fuel Burning Equipment and Fuel Sulfur Content
228-0010 | Applicability | 10/14/1999 | 1/22/2003, 68 FR 2891
228-0020 | Definitions | 5/17/2012 | 6/20/2013, 78 FR 37124
Sulfur Content of Fuels
228-0100 | Residual Fuel Oils | 10/14/1999 | 1/22/2003, 68 FR 2891
228-0110 | Distillate Fuel Oils | 10/14/1999 | 1/22/2003, 68 FR 2891
228-0120 | Coal | 10/14/1999 | 1/22/2003, 68 FR 2891
228-0130 | Exemptions | 10/14/1999 | 1/22/2003, 68 FR 2891
General Emission Standards for Fuel Burning Equipment
228-0200 | Sulfur Dioxide Standards | 5/17/2012 | 6/20/2013, 78 FR 37124
228-0210 | Grain Loading Standards | 5/17/2012 | 6/20/2013, 78 FR 37124
Division 232—Emission Standards for VOC Point Sources
232-0010 | Introduction | 11/8/2007 | 12/27/2011, 76 FR 80747
232-0020 | Applicability | 4/12/2007 | 12/19/2011, 76 FR 78571
232-0030 | Definitions | 12/26/2001 | 8/3/2005, 70 FR 44481
232-0040 | General Non-categorical Requirements | 10/14/1999 | 1/22/2003, 68 FR 2891
232-0050 | Exemptions | 10/14/1999 | 1/22/2003, 68 FR 2891
232-0060 | Compliance Determination | 10/14/1999 | 1/22/2003, 68 FR 2891
232-0070 | Gasoline Dispensing Facilities | 10/14/1999 | 1/22/2003, 68 FR 2891
232-0080 | Bulk Gasoline Plants | 10/14/1999 | 1/22/2003, 68 FR 2891
232-0085 | Gasoline Delivery Vessel(s) | 10/14/1999 | 1/22/2003, 68 FR 2891
232-0090 | Bulk Gasoline Terminals | 10/14/1999 | 1/22/2003, 68 FR 2891
232-0100 | Testing Vapor Transfer and Collection Systems | 10/14/1999 | 1/22/2003, 68 FR 2891
232-0110 | Loading Gasoline onto Marine Tank Vessels | 6/1/2001 | 1/22/2003, 68 FR 2891
232-0120 | Cutback and Emulsified Asphalt | 10/14/1999 | 1/22/2003, 68 FR 2891
232-0130 | Petroleum Refineries | 10/14/1999 | 1/22/2003, 68 FR 2891
232-0140 | Petroleum Refinery Leaks | 10/14/1999 | 1/22/2003, 68 FR 2891
232-0150 | Liquid Storage | 10/14/1999 | 1/22/2003, 68 FR 2891
232-0160 | Surface Coating in Manufacturing | 10/14/1999 | 1/22/2003, 68 FR 2891
232-0170 | Aerospace Component Coating Operations | 10/14/1999 | 1/22/2003, 68 FR 2891
232-0180 | Degreasers | 10/14/1999 | 1/22/2003, 68 FR 2891
232-0190 | Open Top Vapor Degreasers | 10/14/1999 | 1/22/2003, 68 FR 2891
232-0200 | Conveyorized Degreasers | 10/14/1999 | 1/22/2003, 68 FR 2891
232-0210 | Asphaltic and Coal Tar Pitch Used for Roofing Coating | 10/14/1999 | 1/22/2003, 68 FR 2891
232-0220 | Flat Wood Coating | 10/14/1999 | 1/22/2003, 68 FR 2891
232-0230 | Rotogravure and Flexographic Printing | 10/14/1999 | 1/22/2003, 68 FR 2891
Division 234—Emission Standards for Wood Products Industries
234-0010 | Definitions | 11/8/2007 | 12/27/2011; 76 FR 80747 | Except (24), (26)(a), (44).
Wigwam Waste Burners
234-0100 | Wigwam Waste Burners | 11/8/2007 | 12/27/2011; 76 FR 80747
234-0140 | Existing Administrative Agency Orders | 11/8/2007 | 12/27/2011; 76 FR 80747
Kraft Pulp Mills
234-0200 | Statement of Policy and Applicability | 10/14/1999 | 1/22/2003, 68 FR 2891
234-0210 | Emission Limitations | 11/8/2007 | 12/27/2011; 76 FR 80747 | Except (1).
234-0220 | More Restrictive Emission Limits | 10/14/1999 | 1/22/2003, 68 FR 2891
234-0240 | Monitoring | 11/8/2007 | 12/27/2011; 76 FR 80747 | Except (1).
234-0250 | Reporting | 11/8/2007 | 12/27/2011; 76 FR 80747 | Except (1), (2).
234-0270 | Chronic Upset Conditions | 10/14/1999 | 1/22/2003, 68 FR 2891
Neutral Sulfite Semi-Chemical (NSSC) Pulp Mills
234-0300 | Applicability | 10/14/1999 | 1/22/2003, 68 FR 2891
234-0310 | Emission Limitations | 10/14/1999 | 1/22/2003, 68 FR 2891 | Except (1).
234-0320 | More Restrictive Emission Limits | 10/14/1999 | 1/22/2003, 68 FR 2891 | Except (2).
234-0330 | Plans and Specifications | 10/14/1999 | 1/22/2003, 68 FR 2891
234-0340 | Monitoring | 10/14/1999 | 1/22/2003, 68 FR 2891 | Except (2).
234-0350 | Reporting | 10/14/1999 | 1/22/2003, 68 FR 2891 | Except (1).
234-0360 | Upset Conditions | 10/14/1999 | 1/22/2003, 68 FR 2891 | Except (3)(a)(A).
Sulfite Pulp Mills
234-0400 | Statement of Policy and Applicability | 10/14/1999 | 1/22/2003, 68 FR 2891
234-0410 | Minimum Emission Standards | 10/14/1999 | 1/22/2003, 68 FR 2891
234-0420 | Monitoring and Reporting | 10/14/1999 | 1/22/2003, 68 FR 2891
234-0430 | Exceptions | 10/14/1999 | 1/22/2003, 68 FR 2891
Board Products Industries (Veneer, Plywood, Particleboard, Hardboard)
234-0500 | Applicability and General Provisions | 11/8/2007 | 12/27/2011; 76 FR 80747
234-0510 | Veneer and Plywood Manufacturing Operations | 11/8/2007 | 12/27/2011; 76 FR 80747
234-0520 | Particleboard Manufacturing Operations | 11/8/2007 | 12/27/2011; 76 FR 80747
234-0530 | Hardboard Manufacturing Operations | 11/8/2007 | 12/27/2011; 76 FR 80747
Division 236—Emission Standards for Specific Industries
236-0010 | Definitions | 11/8/2007 | 12/27/2011, 76 FR 80747
Primary Aluminum Standards
236-0100 | Statement of Purpose | 10/14/1999 | 1/22/2003, 68 FR 2891
236-0110 | Applicability | 10/14/1999 | 1/22/2003, 68 FR 2891
236-0120 | Emission Standards | 10/14/1999 | 1/22/2003, 68 FR 2891 | Except (1)(a), (3)(a) & (3)(e).
236-0130 | Special Problem Areas | 10/14/1999 | 1/22/2003, 68 FR 2891
236-0140 | Monitoring | 10/14/1999 | 1/22/2003, 68 FR 2891 | Except references to fluorides
236-0150 | Reporting | 10/14/1999 | 1/22/2003, 68 FR 2891 | Except (1)(d) & (1)(e).
Laterite Ore Production of Ferronickel
236-0200 | Statement of Purpose | 10/14/1999 | 1/22/2003, 68 FR 2891
236-0210 | Applicability | 10/14/1999 | 1/22/2003, 68 FR 2891
236-0220 | Emission Standards | 10/14/1999 | 1/22/2003, 68 FR 2891
236-0230 | Monitoring and Reporting | 10/14/1999 | 1/22/2003, 68 FR 2891
Hot Mix Asphalt Plants
236-0400 | Applicability | 10/14/1999 | 1/22/2003, 68 FR 2891
236-0410 | Control Facilities Required | 11/8/2007 | 12/27/2011, 76 FR 80747
236-0420 | Other Established Air Quality Limitations | 10/14/1999 | 1/22/2003, 68 FR 2891
236-0430 | Portable Hot Mix Asphalt Plants | 10/14/1999 | 1/22/2003, 68 FR 2891
236-0440 | Ancillary Sources of Emission—Housekeeping of Plant Facilities | 10/14/1999 | 1/22/2003, 68 FR 2891
Division 240—Rules for Areas with Unique Air Quality Needs
240-0010 | Purpose | 10/14/1999 | 1/22/2003, 68 FR 2891
240-0020 | Emission Limitations | 7/1/2001 | 1/22/2003, 68 FR 2891
240-0030 | Definitions | 1/4/2005 | 6/19/2006, 71 FR 35163
The Medford-Ashland Air Quality Maintenance Area and the Grants Pass Urban Growth Area
240-0100 | Applicability | 1/4/2005 | 6/19/2006, 71 FR 35163
240-0110 | Wood Waste Boilers | 1/4/2005 | 6/19/2006, 71 FR 35163
240-0120 | Veneer Dryer Emission Limitations | 1/4/2005 | 6/19/2006, 71 FR 35163
240-0130 | Air Conveying Systems (Medford-Ashland AQMA Only) | 1/4/2005 | 6/19/2006, 71 FR 35163
240-0140 | Wood Particle Dryers at Particleboard Plants | 1/4/2005 | 6/19/2006, 71 FR 35163
240-0150 | Hardboard Manufacturing Plants | 1/4/2005 | 6/19/2006, 71 FR 35163
240-0160 | Wigwam Waste Burners | 7/1/2001 | 1/22/2003, 68 FR 2891
240-0170 | Charcoal Producing Plants | 7/1/2001 | 1/22/2003, 68 FR 2891
240-0180 | Control of Fugitive Emissions (Medford-Ashland AQMA Only) | 1/4/2005 | 6/19/2006, 71 FR 35163
240-0190 | Requirement for Operation and Maintenance Plans (Medford-Ashland AQMA Only) | 1/4/2005 | 6/19/2006, 71 FR 35163
240-0210 | Continuous Monitoring | 1/4/2005 | 6/19/2006, 71 FR 35163
240-0220 | Source Testing | 1/4/2005 | 6/19/2006, 71 FR 35163
240-0230 | New Sources | 1/4/2005 | 6/19/2006, 71 FR 35163
240-0250 | Open Burning | 7/1/2001 | 1/22/2003, 68 FR 2891
La Grande Urban Growth Area
240-0300 | Applicability | 10/14/1999 | 1/22/2003, 68 FR 2891
240-0310 | Compliance Schedule for Existing Sources | 7/1/2001 | 1/22/2003, 68 FR 2891
240-0320 | Wood-Waste Boilers | 7/1/2001 | 1/22/2003, 68 FR 2891
240-0330 | Wood Particle Dryers at Particleboard Plants | 7/1/2001 | 1/22/2003, 68 FR 2891
240-0340 | Hardboard Manufacturing Plants | 7/1/2001 | 1/22/2003, 68 FR 2891
240-0350 | Air Conveying Systems | 7/1/2001 | 1/22/2003, 68 FR 2891
240-0360 | Fugitive Emissions | 7/1/2001 | 1/22/2003, 68 FR 2891
The Lakeview Urban Growth Area
240-0400 | Applicability | 7/1/2001 | 1/22/2003, 68 FR 2891
240-0410 | Control of Fugitive Emissions | 7/1/2001 | 1/22/2003, 68 FR 2891
240-0420 | Requirement for Operation and Maintenance Plans | 7/1/2001 | 1/22/2003, 68 FR 2891
240-0430 | Source Testing | 7/1/2001 | 1/22/2003, 68 FR 2891
240-0440 | Open Burning | 7/1/2001 | 1/22/2003, 68 FR 2891
Division 242—Rules Applicable to the Portland Area
Employee Commute Options Program
242-0010 | What is the Employee Commute Options Program? | 4/12/2007 | 12/19/2011, 76 FR 78571
242-0020 | Who is Subject to ECO? | 4/12/2007 | 12/19/2011, 76 FR 78571
242-0030 | What Does ECO Require? | 4/12/2007 | 12/19/2011, 76 FR 78571
242-0040 | How Does the Department Enforce ECO? | 4/12/2007 | 12/19/2011, 76 FR 78571
242-0050 | Definitions of Terms Used in These Rules | 4/12/2007 | 12/19/2011, 76 FR 78571
242-0060 | Should All Employees at a Work Site be Counted? | 10/14/1999 | 1/22/2003, 68 FR 2891
242-0070 | What are the Major Requirements of ECO? | 4/12/2007 | 12/19/2011, 76 FR 78571
242-0080 | What are the Registration Requirements? | 4/12/2007 | 12/19/2011, 76 FR 78571
242-0090 | What are the Requirements for an Employee Survey? | 4/12/2007 | 12/19/2011, 76 FR 78571
242-0100 | Special Requirements for Employers Intending to Comply Without an Approved Plan | 10/14/1999 | 1/22/2003, 68 FR 2891
242-0110 | What if an Employer Does Not Meet the Target Auto Trip Rate? | 4/12/2007 | 12/19/2011, 76 FR 78571
242-0120 | How Will Employers Demonstrate Progress Toward the Target Auto Trip Rate? | 4/12/2007 | 12/19/2011, 76 FR 78571
242-0130 | What is the Schedule Employers Must Follow to Implement ECO? | 10/14/1999 | 1/22/2003, 68 FR 2891
242-0140 | How Should Employers Account for Changes in Work Force Size? | 10/14/1999 | 1/22/2003, 68 FR 2891
242-0150 | How Can an Employer Reduce Auto Commute Trips to a Work Site? | 10/14/1999 | 1/22/2003, 68 FR 2891
242-0160 | What Should be Included in an Auto Trip Reduction Plan? | 4/12/2007 | 12/19/2011, 76 FR 78571
242-0170 | When Will the Department Act on a Submitted Auto Trip Reduction Plan? | 10/14/1999 | 1/22/2003, 68 FR 2891
242-0180 | What is a Good Faith Effort? | 4/12/2007 | 12/19/2011, 76 FR 78571
242-0190 | How Does the ECO Program Affect New Employers, Expanding Employers and Employers Relocating Within the Portland AQMA? | 4/12/2007 | 12/19/2011, 76 FR 78571
242-0200 | Can a New or Relocating Employer Comply with ECO Through Restricted Parking Ratios? | 4/12/2007 | 12/19/2011, 76 FR 78571
242-0210 | Can an Existing Employer Comply with ECO Through Restricted Parking Ratios? | 4/12/2007 | 12/19/2011, 76 FR 78571
242-0220 | What if an Employer Has More Than One Work Site Within the Portland AQMA? | 4/12/2007 | 12/19/2011, 76 FR 78571
242-0230 | Can Employers Submit a Joint Plan? | 10/14/1999 | 1/22/2003, 68 FR 2891
242-0240 | Are There Alternatives to Trip Reduction? | 4/12/2007 | 12/19/2011, 76 FR 78571
242-0250 | What Alternatives Qualify as Equivalent Emission Reductions? | 10/14/1999 | 1/22/2003, 68 FR 2891
242-0260 | Can Employers Get Credit for Existing Trip Reduction Programs? | 4/12/2007 | 12/19/2011, 76 FR 78571
242-0270 | Are Exemptions Allowed if an Employer is Unable to Reduce Trips or Take Advantage of Alternate Compliance Options? | 4/12/2007 | 12/19/2011, 76 FR 78571
242-0280 | Participation in the Industrial Emission Management Program | 4/12/2007 | 12/19/2011, 76 FR 78571
242-0290 | What Kind of Records Must be Kept and for How Long? | 4/12/2007 | 12/19/2011, 76 FR 78571
Voluntary Maximum Parking Ratio Program
242-0300 | What is the Voluntary Parking Ratio Program? | 10/14/1999 | 1/22/2003, 68 FR 2891
242-0310 | Who can Participate in the Voluntary Parking Ratio Program? | 10/14/1999 | 1/22/2003, 68 FR 2891
242-0320 | Definitions of Terms and Land Uses | 10/14/1999 | 1/22/2003, 68 FR 2891
242-0330 | How Does a Property Owner Comply with the Voluntary Parking Ratio Program? | 10/14/1999 | 1/22/2003, 68 FR 2891
242-0340 | What are the Incentives for Complying with the Voluntary Parking Ratio Program? | 10/14/1999 | 1/22/2003, 68 FR 2891
242-0350 | Why Do I Need a Parking Ratio Permit? | 10/14/1999 | 1/22/2003, 68 FR 2891
242-0360 | What is Required to Obtain a Parking Ratio Permit? | 10/14/1999 | 1/22/2003, 68 FR 2891
242-0370 | How is the Parking Ratio Program Enforced? | 10/14/1999 | 1/22/2003, 68 FR 2891
242-0380 | When Will the Department Act on a Submitted Permit Application? | 10/14/1999 | 1/22/2003, 68 FR 2891
242-0390 | What are the Applicable Parking Ratios? | 10/14/1999 | 1/22/2003, 68 FR 2891
Industrial Emission Management Program
242-0400 | Applicability | 4/12/2007 | 12/19/2011, 76 FR 78571
242-0410 | Definition of Terms | 4/12/2007 | 12/19/2011, 76 FR 78571
242-0420 | Unused PSEL Donation Program | 4/12/2007 | 12/19/2011, 76 FR 78571
242-0430 | Industrial Growth Allowances | 4/12/2007 | 12/19/2011, 76 FR 78571
242-0440 | Industrial Growth Allowance Allocation | 4/12/2007 | 12/19/2011, 76 FR 78571
Gasoline Vapors From Gasoline Transfer and Dispensing Operations
242-0500 | Purpose and Applicability | 10/14/1999 | 1/22/2003, 68 FR 2891
242-0510 | Definitions | 10/14/1999 | 1/22/2003, 68 FR 2891
242-0520 | General Provisions | 10/14/1999 | 1/22/2003, 68 FR 2891
Motor Vehicle Refinishing
242-0600 | Applicability | 10/14/1999 | 1/22/2003, 68 FR 2891
242-0610 | Definitions | 10/14/1999 | 1/22/2003, 68 FR 2891
242-0620 | Requirements for Motor Vehicle Refinishing in Portland AQMA | 10/14/1999 | 1/22/2003, 68 FR 2891
242-0630 | Inspecting and Testing Requirements | 10/14/1999 | 1/22/2003, 68 FR 2891
Spray Paint
242-0700 | Applicability | 10/14/1999 | 1/22/2003, 68 FR 2891
242-0710 | Definitions | 10/14/1999 | 1/22/2003, 68 FR 2891
242-0720 | Spray Paint Standards and Exemptions | 10/14/1999 | 1/22/2003, 68 FR 2891
242-0730 | Requirements for Manufacture, Sale, and Use of Spray Paint | 10/14/1999 | 1/22/2003, 68 FR 2891
242-0740 | Recordkeeping and Reporting Requirements | 10/14/1999 | 1/22/2003, 68 FR 2891
242-0750 | Inspection and Testing Requirements | 10/14/1999 | 1/22/2003, 68 FR 2891
Area Source Common Provisions
242-0760 | Applicability | 10/14/1999 | 1/22/2003, 68 FR 2891
242-0770 | Compliance Extensions | 10/14/1999 | 1/22/2003, 68 FR 2891
242-0780 | Exemption from Disclosure to the Public | 10/14/1999 | 1/22/2003, 68 FR 2891
242-0790 | Future Review | 10/14/1999 | 1/22/2003, 68 FR 2891
Division 250—General Conformity
250-0010 | Purpose | 10/14/1999 | 1/22/2003, 68 FR 2891
250-0020 | Applicability | 10/14/1999 | 1/22/2003, 68 FR 2891
250-0030 | Definitions | 10/14/1999 | 1/22/2003, 68 FR 2891
250-0040 | Conformity Analysis | 10/14/1999 | 1/22/2003, 68 FR 2891
250-0050 | Reporting Requirements | 10/14/1999 | 1/22/2003, 68 FR 2891
250-0060 | Public Participation | 10/14/1999 | 1/22/2003, 68 FR 2891
250-0070 | Frequency of Conformity Determinations | 10/14/1999 | 1/22/2003, 68 FR 2891
250-0080 | Criteria for Determining Conformity of General Federal Actions | 10/14/1999 | 1/22/2003, 68 FR 2891
250-0090 | Procedures for Conformity Determinations of General Federal Actions | 10/14/1999 | 1/22/2003, 68 FR 2891
250-0100 | Mitigation of Air Quality Impacts | 10/14/1999 | 1/22/2003, 68 FR 2891
Division 252—Transportation Conformity
252-0010 | Purpose | 10/14/1999 | 1/22/2003, 68 FR 2891
252-0030 | Definitions | 3/5/2010 | 10/4/2012, 77 FR 60627
252-0060 | Consultation | 3/5/2010 | 10/4/2012, 77 FR 60627
252-0070 | Timeframe of Conformity Determinations | 3/5/2010 | 10/4/2012, 77 FR 60627 | Except last two sentences.
252-0230 | Written Comments | 3/5/2010 | 10/4/2012, 77 FR 60627
Division 256—Motor Vehicles
256-0010 | Definitions | 7/12/2005 | 12/19/2011, 76 FR 78571
Visible Emissions
256-0100 | Visible Emissions—General Requirements, Exclusions | 7/12/2005 | 12/19/2011, 76 FR 78571
256-0130 | Motor Vehicle Fleet Operation | 7/12/2005 | 12/19/2011, 76 FR 78571
Certification of Pollution Control Systems
256-0200 | County Designations | 10/14/1999 | 11/22/2004, 69 FR 67819
Emission Control System Inspection
256-0300 | Scope | 7/12/2005 | 12/19/2011, 76 FR 78571
256-0310 | Government-Owned Vehicle, Permanent Fleet Vehicle and United States Government Vehicle Testing Requirements | 7/12/2005 | 12/19/2011, 76 FR 78571
256-0330 | Department of Defense Personnel Participating in the Privately Owned Vehicle Import Control Program | 10/14/1999 | 11/22/2004, 69 FR 67819
256-0340 | Light Duty Motor Vehicle and Heavy Duty Gasoline Motor Vehicle Emission Control Test Method for Basic Program | 7/12/2005 | 12/19/2011, 76 FR 78571
256-0350 | Light Duty Motor Vehicle Emission Control Test Method for Enhanced Program | 7/12/2005 | 12/19/2011, 76 FR 78571
256-0355 | Emissions Control Test Method for OBD Test Program | 10/25/2000 | 11/22/2004, 69 FR 67819
256-0356 | Emissions Control Test Method for On-Site Vehicle Testing for Automobile Dealerships | 10/4/2001 | 11/22/2004, 69 FR 67819
256-0370 | Renewal of Registration for Light Duty Motor Vehicles and Heavy Duty Gasoline Motor Vehicles Temporarily Operating Outside of Oregon | 10/14/1999 | 11/22/2004, 69 FR 67819
256-0380 | Light Duty Motor Vehicle Emission Control Test Criteria for Basic Program | 7/12/2005 | 12/19/2011, 76 FR 78571
256-0390 | Heavy Duty Gasoline Motor Vehicle Emission Control Test Criteria | 7/12/2005 | 12/19/2011, 76 FR 78571
256-0400 | Light Duty Motor Vehicle Emission Control Standards for Basic Program | 10/14/1999 | 11/22/2004, 69 FR 67819
256-0410 | Light Duty Motor Vehicle Emission Control Standards for Enhanced Program | 10/14/1999 | 11/22/2004, 69 FR 67819
256-0420 | Heavy-Duty Gasoline Motor Vehicle Emission Control Standards | 10/14/1999 | 11/22/2004, 69 FR 67819
256-0440 | Criteria for Qualifications of Persons Eligible to Inspect Motor Vehicles and Motor Vehicle Pollution Control Systems and Execute Certificates | 10/25/2000 | 11/22/2004, 69 FR 67819
256-0450 | Gas Analytical System Licensing Criteria for Basic Program | 10/14/1999 | 11/22/2004, 69 FR 67819
256-0460 | Gas Analytical System Licensing Criteria for Enhanced Program | 10/14/1999 | 11/22/2004, 69 FR 67819
256-0465 | Test Equipment Licensing Criteria for OBD Test Program | 10/25/2000 | 11/22/2004, 69 FR 67819
256-0470 | Agreement with Independent Contractor; Qualifications of Contractor; Agreement Provisions | 10/14/1999 | 11/22/2004, 69 FR 67819
Division 258—Motor Vehicle Fuel Specifications
258-0010 | Definitions | 10/14/1999 | 1/22/2003, 68 FR 2891
Oxygenated Gasoline
258-0100 | Policy | 10/14/1999 | 1/22/2003, 68 FR 2891
258-0110 | Purpose and General Requirements | 10/14/1999 | 1/22/2003, 68 FR 2891
258-0120 | Sampling and Testing for Oxygen Content | 10/14/1999 | 1/22/2003, 68 FR 2891
258-0130 | Compliance Options | 10/14/1999 | 1/22/2003, 68 FR 2891
258-0140 | Per Gallon Oxygen Content Standard | 10/14/1999 | 1/22/2003, 68 FR 2891
258-0150 | Average Oxygen Content Standard | 10/14/1999 | 1/22/2003, 68 FR 2891
258-0160 | Minimum Oxygen Content | 10/14/1999 | 1/22/2003, 68 FR 2891
258-0170 | Oxygenated Gasoline Blending | 10/14/1999 | 1/22/2003, 68 FR 2891
258-0180 | Registration | 10/14/1999 | 1/22/2003, 68 FR 2891
258-0190 | CAR, Distributor and Retail Outlet Operating Permits | 10/14/1999 | 1/22/2003, 68 FR 2891
258-0200 | Owners of Gasoline at Terminals, Distributors and Retail Outlets Required to Have Indirect Source Operating Permits | 10/14/1999 | 1/22/2003, 68 FR 2891
258-0210 | Recordkeeping | 10/14/1999 | 1/22/2003, 68 FR 2891
258-0220 | Reporting | 10/14/1999 | 1/22/2003, 68 FR 2891
258-0230 | Prohibited Activities | 10/14/1999 | 1/22/2003, 68 FR 2891
258-0240 | Inspection and Sampling | 10/14/1999 | 1/22/2003, 68 FR 2891
258-0250 | Liability for Violation of a Prohibited Activity | 10/14/1999 | 1/22/2003, 68 FR 2891
258-0260 | Defenses for Prohibited Activities | 10/14/1999 | 1/22/2003, 68 FR 2891
258-0270 | Inability to Produce Conforming Gasoline Due to Extraordinary Circumstances | 10/14/1999 | 1/22/2003, 68 FR 2891
258-0280 | Quality Assurance Program | 10/14/1999 | 1/22/2003, 68 FR 2891
258-0290 | Attest Engagements Guidelines When Prohibited Activities Alleged | 10/14/1999 | 1/22/2003, 68 FR 2891
258-0300 | Dispenser Labeling | 10/14/1999 | 1/22/2003, 68 FR 2891
258-0310 | Contingency Provision for Carbon Monoxide Nonattainment Areas | 10/14/1999 | 1/22/2003, 68 FR 2891
Standard for Automotive Gasoline
258-0400 | Reid Vapor Pressure for Gasoline | 10/14/1999 | 1/22/2003, 68 FR 2891
Division 262—Heat Smart Program for Residential Woodstoves and Other Solid Fuel Heating Devices
262-0400 | Purpose and Applicability of Rules | 3/15/2011 | 6/20/2013, 78 FR 37124
262-0450 | Definitions | 5/17/2012 | 6/20/2013, 78 FR 37124
262-0500 | Certification of Solid Fuel Burning Devices for Sale as New | 3/15/2011 | 6/20/2013, 78 FR 37124
262-0600 | New and Used Solid Fuel Burning Devices Sold in Oregon | 5/17/2012 | 6/20/2013, 78 FR 37124
262-0700 | Removal and Destruction of Used Solid Fuel Burning Devices | 3/15/2011 | 6/20/2013, 78 FR 37124
262-0800 | Wood Burning and Other Heating Devices Curtailment Program | 3/15/2011 | 6/20/2013, 78 FR 37124
262-0900 | Materials Prohibited from Burning | 3/15/2011 | 6/20/2013, 78 FR 37124
Division 264—Rules for Open Burning
264-0010 | How to Use These Open Burning Rules | 12/15/2000 | 4/25/2013, 78 FR 24347
264-0020 | Policy | 12/15/2000 | 4/25/2013, 78 FR 24347
264-0030 | Definitions | 12/15/2000 | 4/25/2013, 78 FR 24347
264-0040 | Exemptions, Statewide | 9/17/2008 | 12/27/2011, 76 FR 80747
264-0050 | General Requirements Statewide | 12/15/2000 | 4/25/2013, 78 FR 24347
264-0060 | General Prohibitions Statewide | 12/15/2000 | 4/25/2013, 78 FR 24347
264-0070 | Open Burning Conditions | 12/15/2000 | 4/25/2013, 78 FR 24347
264-0075 | Delegation of Authority | 12/15/2000 | 4/25/2013, 78 FR 24347
264-0078 | Open Burning Control Areas | 12/15/2000 | 4/25/2013, 78 FR 24347
264-0080 | County Listing of Specific Open Burning Rules | 12/15/2000 | 4/25/2013, 78 FR 24347
Open Burning Requirements
264-0100 | Baker, Clatsop, Crook, Curry, Deschutes, Gilliam, Grant, Harney, Hood River, Jefferson, Klamath, Lake, Lincoln, Malheur, Morrow, Sherman, Tillamook, Umatilla, Union, Wallowa, Wasco and Wheeler Counties | 12/15/2000 | 4/25/2013, 78 FR 24347
264-0110 | Benton, Linn, Marion, Polk, and Yamhill Counties | 12/15/2000 | 4/25/2013, 78 FR 24347
264-0120 | Clackamas County | 12/15/2000 | 4/25/2013, 78 FR 24347
264-0130 | Multnomah County | 12/15/2000 | 4/25/2013, 78 FR 24347
264-0140 | Washington County | 12/15/2000 | 4/25/2013, 78 FR 24347
264-0150 | Columbia County | 12/15/2000 | 4/25/2013, 78 FR 24347
264-0160 | Lane County | 12/15/2000 | 4/25/2013, 78 FR 24347
264-0170 | Coos, Douglas, Jackson and Josephine Counties | 12/15/2000 | 4/25/2013, 78 FR 24347
264-0180 | Letter Permits | 12/15/2000 | 4/25/2013, 78 FR 24347
264-0190 | Forced Air Pit Incinerators | 12/15/2000 | 4/25/2013, 78 FR 24347
Division 266—Field Burning Rules (Willamette Valley)
266-0010 | Introduction | 10/14/1999 | 1/22/2003, 68 FR 2891
266-0020 | Policy | 10/14/1999 | 1/22/2003, 68 FR 2891
266-0030 | Definitions | 10/14/1999 | 1/22/2003, 68 FR 2891
266-0040 | General Requirements | 10/14/1999 | 1/22/2003, 68 FR 2891
266-0050 | Registration, Permits, Fees, Records | 10/14/1999 | 1/22/2003, 68 FR 2891
266-0060 | Acreage Limitations, Allocations | 10/14/1999 | 1/22/2003, 68 FR 2891
266-0070 | Daily Burning Authorization Criteria | 10/14/1999 | 1/22/2003, 68 FR 2891
266-0080 | Burning by Public Agencies (Training Fires) | 10/14/1999 | 1/22/2003, 68 FR 2891
266-0090 | Preparatory Burning | 10/14/1999 | 1/22/2003, 68 FR 2891
266-0100 | Experimental Burning | 10/14/1999 | 1/22/2003, 68 FR 2891
266-0110 | Emergency Burning Cessation | 10/14/1999 | 1/22/2003, 68 FR 2891
266-0120 | Propane Flaming | 10/14/1999 | 1/22/2003, 68 FR 2891
266-0130 | Stack Burning | 10/14/1999 | 1/22/2003, 68 FR 2891
Division 268—Emission Reduction Credits
268-0010 | Applicability | 7/1/2001 | 1/22/2003, 68 FR 2891
268-0020 | Definitions | 10/14/1999 | 1/22/2003, 68 FR 2891
268-0030 | Emission Reduction Credits | 7/1/2001 | 1/22/2003, 68 FR 2891
OREGON DEPARTMENT OF FORESTRY—CHAPTER 629
629-24-301 | Maintenance of Productivity and Related Values | 8/1/1987 | 11/1/2001, 66 FR 55105 | Statewide Visibility Plan.
629-43-043 | Smoke Management Plan | 4/13/1987 | 11/1/2001, 66 FR 55105 | Statewide Visibility Plan.
DEPARTMENT OF OREGON STATE POLICE
OFFICE OF STATE FIRE MARSHALL—CHAPTER 837
Division 110—Field Burning and Propaning Rules
837-110-0010 | Field Preparation | 2/7/1994 | 11/1/2001, 66 FR 55105 | Statewide Visibility Plan.
837-110-0020 | Firefighting Water Supplies | 2/7/1994 | 11/1/2001, 66 FR 55105 | Statewide Visibility Plan.
837-110-0030 | Firefighting Equipment | 2/7/1994 | 11/1/2001, 66 FR 55105 | Statewide Visibility Plan.
837-110-0040 | Ignition Criteria | 2/7/1994 | 11/1/2001, 66 FR 55105 | Statewide Visibility Plan.
837-110-0050 | Prohibited Use | 2/7/1989 | 11/1/2001, 66 FR 55105 | Statewide Visibility Plan.
837-110-0060 | Communication | 2/7/1989 | 11/1/2001, 66 FR 55105 | Statewide Visibility Plan.
837-110-0070 | Fire Safety Watch | 2/7/1994 | 11/1/2001, 66 FR 55105 | Statewide Visibility Plan.
837-110-0080 | Fire Safety Buffer Zones | 2/7/1994 | 11/1/2001, 66 FR 55105 | Statewide Visibility Plan.
837-110-0090 | Ban on Burning | 2/7/1994 | 11/1/2001, 66 FR 55105 | Statewide Visibility Plan.
Propaning
837-110-0110 | Field Preparation | 2/7/1994 | 11/1/2001, 66 FR 55105 | Statewide Visibility Plan.
837-110-0120 | Firefighting Water Supplies | 2/7/1994 | 11/1/2001, 66 FR 55105 | Statewide Visibility Plan.
837-110-0130 | Firefighting Equipment | 2/7/1994 | 11/1/2001, 66 FR 55105 | Statewide Visibility Plan.
837-110-0140 | Communication | 2/7/1989 | 11/1/2001, 66 FR 55105 | Statewide Visibility Plan.
837-110-0150 | Fire Safety Watch | 2/7/1994 | 11/1/2001, 66 FR 55105 | Statewide Visibility Plan.
837-110-0160 | Ban on Burning | 8/11/1993 | 11/1/2001, 66 FR 55105 | Statewide Visibility Plan.

Table 3—EPA Approved City and County Ordinances
Agency and ordinance | Title or subject | Date | EPA approval date | Explanation
City of Grants Pass Ordinance No. 4671 | Bans Open Burning | 7/18/1990 | 12/17/1993, 58 FR 65934 | Grants Pass PM-10 Attainment Plan.
City of Eugene Ordinance No. 19731 | An Ordinance Restricting the Use of Solid Fuel Space Heating Devices During Air Pollution Episodes | 11/5/1990 | 8/24/1994, 59 FR 43483 | Eugene-Springfield PM-10 Attainment Plan.
Lane County Ordinance No. 9-90 | Restricts Use of Solid Fuel Space Heating Devices During Air Pollution Episodes | 12/19/1990 | 8/24/1994, 59 FR 43483 | Eugene-Springfield PM-10 Attainment Plan.
City of Springfield Ordinance No. 5546 | Restricts Use of Solid Fuel Space Heating Devices During Air Pollution Episodes | 12/17/1990 | 8/24/1994, 59 FR 43483 | Eugene-Springfield PM-10 Attainment Plan.
Union County Ordinance 1991-6 | Field Burning Smoke Management Program | 6/5/1991 | 2/15/1995, 60 FR 8563 | La Grande PM-10 Attainment Plan.
Klamath County Clean Air Ordinance 63 | Adopts a Mandatory Air Quality Program and Establishes Boundaries and Enforcement Controls | 7/31/1991 | 4/14/1997, 62 FR 18047 | Klamath Falls PM-10 Attainment Plan.
City of Klamath Falls Ordinance 6630 | An Ordinance Consenting to the Application of the Klamath County Air Quality Program Ordinance Within City Limits | 9/16/1991 | 4/14/1997, 62 FR 18047 | Klamath Falls PM-10 Attainment Plan.
City of Oakridge Ordinance 815 | Restricts Use of Solid Fuel Space Heating Devices During Air Pollution Episodes | 8/15/96 | 3/15/1999, 64 FR 12751 | Oakridge PM-10 Attainment Plan.
Town of Lakeview Resolution No. 402 | Establishes a Lakeview Air Quality Improvement Program | 2/28/1994 | 9/21/1999, 64 FR 51051 | Lakeview PM-10 Attainment Plan.
Lake County Commissioners Resolution | Establishment of a Lakeview Urban Growth Boundary Air Quality Improvement Program | 3/15/1995 | 9/21/1999, 64 FR 51051 | Lakeview PM-10 Attainment Plan.
Town of Lakeview Ordinance No. 748 | Prohibits Use of Solid Fuel Burning Devices, Provides Certain Exemptions and Establishes Enforcement Controls | 2/28/1995 | 9/21/1999, 64 FR 51051 | Lakeview PM-10 Attainment Plan.
Town of Lakeview Ordinance No. 749 | Prohibits Waste Burning; Restricts Open Burning, Repeals Ordinance No. 581 | 2/28/1995 | 9/21/1999, 64 FR 51051 | Lakeview PM-10 Attainment Plan.
Lake County Ordinance No. 29 | Prohibits Use of Solid Fuel Burning Devices, Provides Certain Exemptions and Establishes Enforcement Controls | 3/15/1995 | 9/21/1999, 64 FR 51051 | Lakeview PM-10 Attainment Plan.
Lake County Ordinance No. 30 | Prohibits Waste Burning and Restricts Open Burning | 3/15/1995 | 9/21/1999, 64 FR 51051 | Lakeview PM-10 Attainment Plan.
Medford Ordinance No. 6484 | Woodstove Curtailment | 11/17/1989 | 7/24/2002, 67 FR 48388 | Medford Carbon Monoxide (CO) Maintenance Plan.
Union County Ordinance No. 1992-4 | Management and Control of Field Burning | 7/1/1992 | 11/1/2001, 66 FR 55105 | Statewide Visibility Plan.
Jefferson County Ordinance No. 0-58-89 | Management and Control of Field Burning | 5/31/1989 | 11/1/2001, 66 FR 55105 | Statewide Visibility Plan.
Codified Ordinances of Jackson County 1810.01 | Definitions | 5/2/1990 | 6/19/2006, 71 FR 35163 | Medford-Ashland PM-10 Attainment Plan.
Codified Ordinances of Jackson County 1810.02 | Exceptions to chapter | 8/22/2001 | 6/19/2006, 71 FR 35163 | Medford-Ashland PM-10 Attainment Plan.
Codified Ordinances of Jackson County 1810.03 | Requirements for solid fuel heating device installation | 12/20/1989 | 6/19/2006, 71 FR 35163 | Medford-Ashland PM-10 Attainment Plan.
Codified Ordinances of Jackson County 1810.04 | Solid fuel burning device omission standard | 5/2/1990 | 6/19/2006, 71 FR 35163 | Medford-Ashland PM-10 Attainment Plan.
Codified Ordinances of Jackson County 1810.05 | Restriction of woodburning and emissions on high pollution days | 5/2/1990 | 6/19/2006, 71 FR 35163 | Medford-Ashland PM-10 Attainment Plan.
Codified Ordinances of Jackson County 1810.06 | Trackout | 12/4/1985 | 6/19/2006, 71 FR 35163 | Medford-Ashland PM-10 Attainment Plan.
Codified Ordinances of Jackson County 1810.07 | Open burning | 8/22/2001 | 6/19/2006, 71 FR 35163 | Medford-Ashland PM-10 Attainment Plan.
Codified Ordinances of Jackson County 1810.08 | Burning of material emitting dense smoke or noxious odors in solid fuel burning devices | 12/20/1989 | 6/19/2006, 71 FR 35163 | Medford-Ashland PM-10 Attainment Plan.
Codified Ordinances of Jackson County Exhibit A | [Map 1] | 5/2/1990 | 6/19/2006, 71 FR 35163 | Medford-Ashland PM-10 Attainment Plan.
Codified Ordinances of Jackson County Exhibit B | Proposed Curtailment Boundary Jackson County | 5/2/1990 | 6/19/2006, 71 FR 35163 | Medford-Ashland PM-10 Attainment Plan.
Codified Ordinances of Jackson County Exhibit C | [Map 2] | 5/2/1990 | 6/19/2006, 71 FR 35163 | Medford-Ashland PM-10 Attainment Plan.
Codified Ordinances of Jackson County Exhibit D | Boundary Description Medford-Ashland Air Quality Maintenance Area | 5/2/1990 | 6/19/2006, 71 FR 35163 | Medford-Ashland PM-10 Attainment Plan.
Code of the City of Medford, Oregon: 5.550 | Outside Burning | 3/16/2000 | 6/19/2006, 71 FR 35163 | Medford-Ashland PM-10 Attainment Plan.
Code of the City of Medford, Oregon: 7.220 | Definitions | 9/17/1998 | 6/19/2006, 71 FR 35163 | Medford-Ashland PM-10 Attainment Plan.
Code of the City of Medford, Oregon: 7.222 | Operation of Solid Fuel Burning Device Prohibition | 9/17/1998 | 6/19/2006, 71 FR 35163 | Medford-Ashland PM-10 Attainment Plan.
Code of the City of Medford, Oregon: 7.224 | Exemptions | 9/17/1998 | 6/19/2006, 71 FR 35163 | Medford-Ashland PM-10 Attainment Plan.
Code of the City of Medford, Oregon: 7.240 | Installation of Solid-Fuel Heating Devices | 8/2/1990 | 6/19/2006, 71 FR 35163 | Medford-Ashland PM-10 Attainment Plan.
Code of the City of Medford, Oregon: 7.242 | Prohibited Materials | 9/17/1998 | 6/19/2006, 71 FR 35163 | Medford-Ashland PM-10 Attainment Plan.
City of Central Point Municipal Code: 8.01.010 | Definitions | 1998 | 6/19/2006, 71 FR 35163 | Medford-Ashland PM-10 Attainment Plan.
City of Central Point Municipal Code: 8.01.012 | Requirements for solid fuel burning device installation | 1998 | 6/19/2006, 71 FR 35163 | Medford-Ashland PM-10 Attainment Plan.
City of Central Point Municipal Code: 8.01.014 | Solid fuel burning device emission standard | 1998 | 6/19/2006, 71 FR 35163 | Medford-Ashland PM-10 Attainment Plan.
City of Central Point Municipal Code: 8.01.020 | Operation of solid fuel device prohibition | 1998 | 6/19/2006, 71 FR 35163 | Medford-Ashland PM-10 Attainment Plan.
City of Central Point Municipal Code: 8.01.030 | Exemptions | 1998 | 6/19/2006, 71 FR 35163 | Medford-Ashland PM-10 Attainment Plan.
City of Central Point Municipal Code: 8.01.032 | Prohibited materials | 1998 | 6/19/2006, 71 FR 35163 | Medford-Ashland PM-10 Attainment Plan.
City of Central Point Municipal Code: 8.04.040 H. | Penalty and abatement | 1979 | 6/19/2006, 71 FR 35163 | Medford-Ashland PM-10 Attainment Plan.
City of Central Point Municipal Code: 8.04.095 | Trackout prohibited | 1994 | 6/19/2006, 71 FR 35163 | Medford-Ashland PM-10 Attainment Plan.
City of Ashland Municipal Code: 10.30.005 | Definitions | 1998 | 6/19/2006, 71 FR 35163 | Medford-Ashland PM-10 Attainment Plan.
City of Ashland Municipal Code: 10.30.010 | Outdoor and Indoor Burning Restricted | 1998 | 6/19/2006, 71 FR 35163 | Medford-Ashland PM-10 Attainment Plan.
City of Ashland Municipal Code: 10.30.020 | Period When Outdoor Burning is Authorized | 2000 | 6/19/2006, 71 FR 35163 | Medford-Ashland PM-10 Attainment Plan.
City of Ashland Municipal Code: 10.30.030 | Requirements for Permitted Fires | 1993 | 6/19/2006, 71 FR 35163 | Medford-Ashland PM-10 Attainment Plan.
City of Ashland Municipal Code: 10.30.040 | Permits Required | 1993 | 6/19/2006, 71 FR 35163 | Medford-Ashland PM-10 Attainment Plan.
City of Ashland Municipal Code: 9.24.010 | Definitions | 1998 | 6/19/2006, 71 FR 35163 | Medford-Ashland PM-10 Attainment Plan.
City of Ashland Municipal Code: 9.24.020 | Requirements for Solid Fuel Heating Device Installation | 1998 | 6/19/2006, 71 FR 35163 | Medford-Ashland PM-10 Attainment Plan.
City of Ashland Municipal Code: 9.24.030 | Solid Fuel Burning Device Emission Standard | 1998 | 6/19/2006, 71 FR 35163 | Medford-Ashland PM-10 Attainment Plan.
City of Ashland Municipal Code: 9.24.040 | Restriction of Woodburning an Emissions on High Pollution Days | 1998 | 6/19/2006, 71 FR 35163 | Medford-Ashland PM-10 Attainment Plan.
City of Ashland Municipal Code: 9.24.050 | Prohibited Materials | 1998 | 6/19/2006, 71 FR 35163 | Medford-Ashland PM-10 Attainment Plan.
City of Talent Ordinance #565 | An ordinance of the city of Talent adopting a uniform fire code | 8/20/1992 | 6/19/2006, 71 FR 35163 | Medford-Ashland PM-10 Attainment Plan.
City of Talent Ordinance #98-635-0 | An ordinance regulating the use of solid fuel burning devices within the city of Talent, Oregon | 3/4/1998 | 6/19/2006, 71 FR 35163 | Medford-Ashland PM-10 Attainment Plan.
City of Phoenix code: 8.16.050 | Burn days | 1982 | 6/19/2006, 71 FR 35163 | Medford-Ashland PM-10 Attainment Plan.
City of Phoenix code: 8.16.090 | Prohibited materials | 1982 | 6/19/2006, 71 FR 35163 | Medford-Ashland PM-10 Attainment Plan.
City of Phoenix code: 8.20.010 | Definitions | 1998 | 6/19/2006, 71 FR 35163 | Medford-Ashland PM-10 Attainment Plan.
City of Phoenix code: 8.20.020 | Requirements for solid fuel heating device installation | 1998 | 6/19/2006, 71 FR 35163 | Medford-Ashland PM-10 Attainment Plan.
City of Phoenix code: 8.20.030 | Solid fuel burning device emission standard | 1998 | 6/19/2006, 71 FR 35163 | Medford-Ashland PM-10 Attainment Plan.
City of Phoenix code: 8.20.040 | Restriction of woodburning and emissions on high pollution days | 1998 | 6/19/2006, 71 FR 35163 | Medford-Ashland PM-10 Attainment Plan.
City of Phoenix code: 8.20.050 | Prohibited materials | 1998 | 6/19/2006, 71 FR 35163 | Medford-Ashland PM-10 Attainment Plan.
City of Jacksonville code: Ordinance 375 | An ordinance amending chapter 8.08.100 of the Jacksonville Municipal Code | 4/21/1992 | 6/19/2006, 71 FR 35163 | Medford-Ashland PM-10 Attainment Plan.
City of Jacksonville Code Chapter 8.10 | Woodheating | February 1992 | 6/19/2006, 71 FR 35163 | Medford-Ashland PM-10 Attainment Plan.
City of Eagle Point Code: 8.08.160 | Outside burning of refuse or rubbish | 2000 | 6/19/2006, 71 FR 35163 | Medford-Ashland PM-10 Attainment Plan.
City of Eagle Point Code: 8.08.170 | Open burning restricted | 1990 | 6/19/2006, 71 FR 35163 | Medford-Ashland PM-10 Attainment Plan.
City of Eagle Point Code: 8.08.180 | Purposes for open burning permit | 1990 | 6/19/2006, 71 FR 35163 | Medford-Ashland PM-10 Attainment Plan.
City of Eagle Point Code: 8.08.190 | Times when open burning fire allowed | 1990 | 6/19/2006, 71 FR 35163 | Medford-Ashland PM-10 Attainment Plan.
City of Eagle Point Code: 8.08.200 | Public nuisance. | 1990 | 6/19/2006, 71 FR 35163 | Medford-Ashland PM-10 Attainment Plan.

Table 4—EPA Approved Lane Regional Air Protection Agency (LRAPA) Rules for Oregon
LRAPA citation | Title/subject | State effective date | EPA approval date | Explanations
Title 11—Policy and General Provisions
11-005 | Policy | 10/9/1979 | 9/9/1993, 58 FR 47385. |
11-010 | Construction and Validity | 10/9/1979 | 9/9/1993, 58 FR 47385. |
Title 12—Definitions
12-001 | Definitions of Words and Terms Used in LRAPA Rules and Regulations | 3/8/1994 | 8/3/2001, 66 FR 40616. |
Title 16—Home Wood Heating Curtailment Program Enforcement
16-001 | Purpose | 7/13/1993 | 8/24/1994, 59 FR 43483. |
16-010 | Definitions | 7/13/1993 | 8/24/1994, 59 FR 43483. |
16-100 | Civil Penalty Schedule | 7/13/1993 | 8/24/1994, 59 FR 43483. |
16-110 | Classification of Violations | 7/13/1993 | 8/24/1994, 59 FR 43483. |
16-120 | Notice of Violation | 7/13/1993 | 8/24/1994, 59 FR 43483. |
16-130 | Appeal of Civil Penalty | 7/13/1993 | 8/24/1994, 59 FR 43483. |
16-140 | Conducting Contested Case Evidentiary Hearings | 7/13/1993 | 8/24/1994, 59 FR 43483. |
16-150 | Evidentiary Rules | 7/13/1993 | 8/24/1994, 59 FR 43483. |
16-160 | Final Orders | 7/13/1993 | 8/24/1994, 59 FR 43483. |
16-170 | Default Orders | 7/13/1993 | 8/24/1994, 59 FR 43483. |
Title 29—Incinerator Regulations
29-0010 | Definitions | 9/26/2011 | 4/11/2013, 78 FR 21547 | Except 1-5, and 7 through 14.
29-0030 | Designation of Nonattainment Areas | 9/26/2011 | 4/11/2013, 78 FR 21547. |
29-0040 | Designation of Maintenance Areas | 9/26/2011 | 4/11/2013, 78 FR 21547. |
Title 30—Incinerator Regulations
30-005 | Purpose and Applicability | 3/8/1994 | 8/3/2001, 66 FR 40616. |
30-010 | Definitions | 3/8/1994 | 8/3/2001, 66 FR 40616. |
30-015 | Best Available Control Technology for Solid and Infectious Waste Incinerators | 3/8/1994 | 8/3/2001, 66 FR 40616. |
30-020 | Emission Limitations for Solid and Infectious Waste Incinerators | 3/8/1994 | 8/3/2001, 66 FR 40616 | Except (2) & (8).
30-025 | Design and Operation for Solid and Infectious Waste Incinerators | 3/8/1994 | 8/3/2001, 66 FR 40616 | Except (9).
30-030 | Continuous Emission Monitoring for Solid and Infectious Waste Incinerators | 3/8/1994 | 8/3/2001, 66 FR 40616 | Except (1)(I) & (2)(E).
30-035 | Reporting and Testing for Solid and Infectious Waste Incinerators | 3/8/1994 | 8/3/2001, 66 FR 40616. |
30-040 | Compliance for Solid and Infectious Waste Incinerators | 3/8/1994 | 8/3/2001, 66 FR 40616. |
30-045 | Emission Limitations of Crematory Incinerators | 3/8/1994 | 8/3/2001, 66 FR 40616 | Except for (3).
30-050 | Design and Operation of Crematory Incinerators | 3/8/1994 | 8/3/2001, 66 FR 40616. |
30-055 | Monitoring and Reporting for Crematory Incinerators | 3/8/1994 | 8/3/2001, 66 FR 40616. |
30-060 | Compliance of Crematory Incinerators | 3/8/1994 | 8/3/2001, 66 FR 40616. |
Title 32—Emission Standards
32-001 | Definitions | 11/10/1994 | 8/3/2001, 66 FR 40616. |
32-005 | Highest and Best Practicable Treatment and Control Required | 11/10/1994 | 8/3/2001, 66 FR 40616. |
32-006 | Pollution Prevention | 11/10/1994 | 8/3/2001, 66 FR 40616. |
32-007 | Operating and Maintenance Requirements | 11/10/1994 | 8/3/2001, 66 FR 40616. |
32-008 | Typically Achievable Control Technology (TACT) | 11/10/1994 | 8/3/2001, 66 FR 40616. |
32-009 | Additional Control Requirements for Stationary Sources of Air Contaminants | 11/10/1994 | 8/3/2001, 66 FR 40616. |
32-010 | Visible Air Contaminant Limitations | 11/10/1994 | 8/3/2001, 66 FR 40616. |
32-015 | Particulate Matter Weight Standards | 11/10/1994 | 8/3/2001, 66 FR 40616. |
32-020 | Particulate Matter Weight Standards—Existing Combustion Sources | 11/10/1994 | 8/3/2001, 66 FR 40616. |
32-030 | Particulate Matter Weight Standards—New Combustion Sources | 11/10/1994 | 8/3/2001, 66 FR 40616. |
32-045 | Process Weight Emission Limitations | 11/10/1994 | 8/3/2001, 66 FR 40616. |
32-055 | Particulate Matter Size Standard | 11/10/1994 | 8/3/2001, 66 FR 40616. |
32-060 | Air Conveying Systems | 9/26/2011 | 4/11/2013, 78 FR 21547. |
32-065 | Sulfur Content of Fuels | 9/26/2011 | 4/11/2013, 78 FR 21547 | Except paragraphs 1 and 2.
32-070 | Sulfur Dioxide Emission Limitations | 11/10/1994 | 8/3/2001, 66 FR 40616. |
32-090 | Other Emissions | 11/10/1994 | 8/3/2001, 66 FR 40616. |
Table 1 | Table of Allowable Rate of Particulate Emissions—Based on Process Weight | 11/10/1994 | 8/3/2001, 66 FR 40616. |
Title 33—Prohibited Practices and Control of Special Classes of Industry
33-030 | Concealment and Masking of Emissions | 11/10/1994 | 8/3/2001, 66 FR 40616. |
33-045 | Gasoline Tanks | 11/10/1994 | 8/3/2001, 66 FR 40616. |
33-060 | Board Products Industries (Hardwood, Particleboard, Plywood, Veneer) | 11/10/1994 | 8/3/2001, 66 FR 40616. |
33-065 | Charcoal Producing Plants | 11/10/1994 | 8/3/2001, 66 FR 40616. |
33-070 | Kraft Pulp Mills | 11/10/1994 | 8/3/2001, 66 FR 40616 | Except for (1)Definitions for Non-Condensibles, Other Sources, and TRS; (3)(A), (6)(B), (7)(A), (7)(B), (8)(C)(1)(a), & (8)(C)(2)(a).
33-075 | Hot Mix Asphalt Plants | 11/10/1994 | 8/3/2001, 66 FR 40616. |
Title 34—Stationary Source Rules and Permitting Procedures
34-001 | General Policy and Rule Organization | 6/13/2000 | 8/3/2001, 66 FR 40616. |
34-005 | Definitions | 6/13/2000 | 8/3/2001, 66 FR 40616. |
Rules Applicable to All Stationary Sources
34-010 | Applicability | 6/13/2000 | 8/3/2001, 66 FR 40616. |
34-015 | Request for Information | 6/13/2000 | 8/3/2001, 66 FR 40616. |
34-020 | Information Exempt from Disclosure | 6/13/2000 | 8/3/2001, 66 FR 40616. |
34-030 | Source Registration | 6/13/2000 | 8/3/2001, 66 FR 40616. |
34-040 | Compliance Schedules for Existing Sources Affected by New Rules | 6/13/2000 | 8/3/2001, 66 FR 40616. |
Rules Applicable to Sources Required to Have ACDP or Title V Operating Permits
34-050 | Applicability | 6/13/2000 | 8/3/2001, 66 FR 40616. |
34-060 | Plant Site Emission Limit Rules | 6/13/2000 | 8/3/2001, 66 FR 40616 | except for (6) & (8).
34-070 | Sampling, Testing and Monitoring of Air Contaminant Emissions | 6/13/2000 | 8/3/2001, 66 FR 40616. |
Rules Applicable to Sources Required to Have Air Contaminant Discharge Permits (ACDP)
34-090 | Purpose and Applicability | 6/13/2000 | 8/3/2001, 66 FR 40616. |
34-100 | Permit Categories | 6/13/2000 | 8/3/2001, 66 FR 40616. |
34-110 | Permit Required | 6/13/2000 | 8/3/2001, 66 FR 40616. |
34-120 | Synthetic Minor Sources | 6/13/2000 | 8/3/2001, 66 FR 40616. |
34-130 | General Procedures for Obtaining ACDP Permits | 6/13/2000 | 8/3/2001, 66 FR 40616. |
34-140 | Permit Duration | 6/13/2000 | 8/3/2001, 66 FR 40616. |
34-150 | ACDP Fees | 6/13/2000 | 8/3/2001, 66 FR 40616. |
Table A Part I Part II | Air Contaminant Sources and Associated Fee Schedule | 6/13/2000 | 8/3/2001, 66 FR 40616. |
Title 38—New Source Review
38-001 | General Applicability | 2/13/1990 | 9/9/1993, 58 FR 47385. |
38-005 | Definitions | 2/13/1990 | 9/9/1993, 58 FR 47385. |
38-010 | General Requirements for Major Sources and Major Modifications | 2/13/1990 | 9/9/1993, 58 FR 47385. |
38-015 | Additional Requirements for Major Sources or Major Modifications Located in Nonattainment Areas | 2/13/1990 | 9/9/1993, 58 FR 47385. |
38-020 | Additional Requirements for Major Sources or Major Modifications in Attainment or Unclassified Areas (Prevention of Significant Deterioration) | 2/13/1990 | 9/9/1993, 58 FR 47385. |
38-025 | Exemptions for Major Sources and Major Modifications | 2/13/1990 | 9/9/1993, 58 FR 47385. |
38-030 | Baseline for Determining Credits for Offsets | 2/13/1990 | 9/9/1993, 58 FR 47385. |
38-035 | Requirements for Net Air Quality Benefit for Major Sources and Major Modifications | 2/13/1990 | 9/9/1993, 58 FR 47385. |
38-040 | Emission Reduction Credit Banking | 2/13/1990 | 9/9/1993, 58 FR 47385. |
38-045 | Requirements for Non-Major Sources and Non-Major Modifications | 2/13/1990 | 9/9/1993, 58 FR 47385. |
38-050 | Stack Height and Dispersion Techniques | 2/13/1990 | 9/9/1993, 58 FR 47385. |
Title 39—Contingency for PM10 Sources in Eugene-Springfield Non-Attainment Area
39-001 | Purpose | 11/13/1991 | 8/24/1994, 59 FR 43483. |
39-005 | Relation to Other Rules | 11/13/1991 | 8/24/1994, 59 FR 43483. |
39-010 | Applicability | 11/13/1991 | 8/24/1994, 59 FR 43483. |
39-015 | Definitions | 11/13/1991 | 8/24/1994, 59 FR 43483. |
39-020 | Compliance Schedule for Existing Sources | 11/13/1991 | 8/24/1994, 59 FR 43483. |
39-025 | Wood-Waste Boilers | 11/13/1991 | 8/24/1994, 59 FR 43483. |
39-030 | Veneer Dryers | 11/13/1991 | 8/24/1994, 59 FR 43483. |
39-035 | Particleboard Plants and Wood Particle Dryers | 11/13/1991 | 8/24/1994, 59 FR 43483. |
39-040 | Kraft Pulp Mills | 11/13/1991 | 8/24/1994, 59 FR 43483. |
39-050 | Air Conveying Systems | 11/13/1991 | 8/24/1994, 59 FR 43483. |
39-055 | Fugitive Dust | 11/13/1991 | 8/24/1994, 59 FR 43483. |
39-060 | Open Burning | 11/13/1991 | 8/24/1994, 59 FR 43483. |
Title 47—Rules for Open Outdoor Burning
47-001 | General Policy | 8/14/84 | 9/9/1993, 58 FR 47385. |
47-005 | Statutory Exemptions from These Rules | 8/14/84 | 9/9/1993, 58 FR 47385. |
47-010 | Definitions | 1/1/1993 | 1/11/1995, 60 FR 2690. |
47-015 | Open Burning Requirements | 1/1/1993 | 1/11/1995, 60 FR 2690. |
47-020 | Letter Permits | 1/1/1993 | 1/11/1995, 60 FR 2690. |
47-030 | Summary of Seasons, Areas, and Permit Requirements for Open Burning | 1/1/1993 | 1/11/1995, 60 FR 2690. |
Title 50—Ambient Air Standards
50-005 | General | 7/12/1988 | 9/9/1993, 58 FR 47385. |
50-015 | Suspended Particulate Matter | 7/12/1988 | 9/9/1993, 58 FR 47385. |
50-025 | Sulfur Dioxide | 7/12/1988 | 9/9/1993, 58 FR 47385. |
50-030 | Carbon Monoxide | 7/12/1988 | 9/9/1993, 58 FR 47385. |
50-035 | Ozone | 7/12/1988 | 9/9/1993, 58 FR 47385. |
50-040 | Nitrogen Dioxide | 7/12/1988 | 9/9/1993, 58 FR 47385. |
50-045 | Lead | 7/12/1988 | 9/9/1993, 58 FR 47385. |
Title 51—Air Pollution Emergencies
51-005 | Introduction | 7/12/1988 | 9/9/1993, 58 FR 47385. |
51-010 | Episode Criteria | 7/12/1988 | 9/9/1993, 58 FR 47385. |
51-015 | Emission Reduction Plans | 7/12/1988 | 9/9/1993, 58 FR 47385. |
51-020 | Preplanned Abatement Strategies | 7/12/1988 | 9/9/1993, 58 FR 47385. |
51-025 | Implementation | 7/12/1988 | 9/9/1993, 58 FR 47385. |
Table I | Air Pollution Episode, Alert Condition | 7/12/1988 | 9/9/1993, 58 FR 47385. |
Table II | Air Pollution Episode, Warning Conditions | 7/12/1988 | 9/9/1993, 58 FR 47385. |
Table III | Air Pollution Episode, Emergency Conditions | 7/12/1988 | 9/9/1993, 58 FR 47385. |

(d) EPA approved State Source-specific requirements.

Name of source | Permit No. | State effective date | EPA approval date | Explanation
Industrial Laundry & Dry Cleaners | 26-3025 | 12/9/1980 | 8/27/1981, 46 FR 43142 | Air Contaminant Discharge Permit Expiration Date: 11/1/1987.
VANPLY, Inc.& Spalding Pulp & Paper Co | Stipulation and Consent Final Order | 12/30/1980 | 8/27/1981, 46 FR 43142 | Transfer by VANPLY, INC. of a VOC Offset to Spalding Pulp & Paper Co.
Weyerhaeuser Company | 18-0037 | 2/3/1981 | 11/6/1981, 46 FR 55101 | Conditions 5 and 6—Air Contaminant Discharge Permit Exp. Date: 5/1/1986.
Spaulding Pulp and Paper Co. | 36-6041 | 12/11/1980 | 8/27/1981, 46 FR 43142 | Air Contaminant Discharge Permit Expiration Date: 10/1/1984.
Dura Industries | 26-3112 | 9/14/1995 | 3/31/1998, 63 FR 15293 | Air Contaminant Discharge Permit Expiration Date 9/1/1997.
Cascade General (Port of Portland) | 26-3224 | 10/4/1995 | 3/7/1997, 62 FR 10455 | Air Contaminant Discharge Permit Expiration Date 5/1/1997.
White Consolidated Inc | 34-2060 | 8/1/1995 | 3/7/1997, 62 FR 10455 | Air Contaminant Discharge Permit Expiration Date 8/1/1997.
Intel Corporation | 34-2681 | 9/24/1993 (State effective date of Title V Program) | 7/18/1996, 61 FR 37393 | Oregon Title-V Operating Permit Expiration Date: 10/31/1999.
PCC Structurals, Inc | 26-1867 | 4/4/1997 | 6/20/1997, 62 FR 33548 | Conditions 19, 20 and 21 in Addendum No. 2 Air Contaminant Discharge Permit Expiration Date: 4/1/2000.
Ostrander Construction Company Fremont Sawmill | ACDP No. 19-0002 | 4/29/1998 | 9/21/1999, 64 FR 51051 | Air Contaminant Discharge Permit Expiration Date 11/1/2002.

(e) EPA Approved Nonregulatory provisions and Quasi-Regulatory Measures.

EPA Approved Oregon State Statutes
State citation | Title/subject | State effective date | EPA approval date | Explanations
ORS Chapter 468 | General Administration, Enforcement, Pollution Control Facilities Tax Credit | 11/4/1993 | 7/19/1995, 60 FR 37013
ORS Chapter 468A | Air Pollution Control, Regional Air Quality Control Authorities, Motor Vehicle Pollution Control, Field Burning and Propane | 11/4/1993 | 7/19/1995, 60 FR 37013 | Except 468A.075.
ORS Chapter 468A.330 | Small Business Stationary Source Technical and Environmental Compliance Assistance Program | 11/4/1993 | 9/5/1995, 60 FR 46025

State of Oregon Air Quality Control Program
SIP citation | Title/subject | State effective date | EPA Approval Date | Explanation
Section 1 | Introduction | 4/25/1986 | 7/30/1991, 56 FR 36006
Section 2 | General Administration | Section 2, 4/25/1986 | Section 2, 7/30/1991, 56 FR 36006
|  | 2.1, 4/25/1986 | 2.1, 7/30/1991, 56 FR 36006 | 2.1 Agency Organization.
|  | 2.2, 7/29/1992 | 2.2, 7/19/1995, 60 FR 37013 | 2.2 Legal Authority.
|  | 2.3, 4/25/1986 | 2.3, 7/30/1991, 56 FR 36006 | 2.3 Resources.
|  | 2.4, 4/25/1986 | 2.4, 7/30/1991, 56 FR 36006 | 2.4 Intergovernmental cooperation.
|  | 2.5, 4/25/1986 | 2.5, 7/30/1991, 56 FR 36006 | 2.5 Miscellaneous Provisions.
|  | 2.6, 11/16/1992 | 2.6, 9/5/1995, 60 FR 46025 | 2.6 Small Business Assistance Program.
Section 3 | Statewide Regulatory Provisions | 4/25/1986 | 7/30/1991, 56 FR 36006 | Refer to table (c) for approved regulations.
Section 4 | Control Strategies for Nonattainment Areas | 4, 4/25/1986 | 4, 7/30/1991, 56 FR 36006 |
|  | 4.1, 12/19/1980 | 4.1, 4/12/1982, 47 FR 15587 | 4.1 Portland-Vancouver TSP Attainment Plan.
|  | 4.2, 7/16/1982 | 4.2, 10/7/1982, 47 FR 44261 | 4.2 Portland-Vancouver CO Attainment Plan.
|  | 4.3, 7/16/1982 | 4.3, 10/7/1982, 47 FR 44261 | 4.3 Portland-Vancouver Ozone Attainment Plan.
|  | 4.4, 6/20/1979 | 4.4, 6/24/1980, 45 FR 42265 | 4.4 Salem CO Attainment Plan.
|  | 4.5, 9/19/1980 | 4.5, 4/12/1982, 47 FR 15587 | 4.5 Salem Ozone Attainment Plan.
|  | 4.6, 1/30/1981 | 4.6, 4/12/1982, 47 FR 15587 | 4.6 Eugene-Springfield TSP Attainment Plan.
|  | 4.7, 6/20/1979 | 4.7, 6/24/1980, 45 FR 42265 | 4.7 Eugene-Springfield CO Attainment Plan.
|  | 12/9/1988 | 12/6/1993, 58 FR 64161 | Eugene-Springfield CO Maintenance Plan.
|  | 4.8, 1/25/85 | 4.8, 6/4/1986, 51 FR 20285 | 4.8 Medford-Ashland Ozone, Maintenance Plan.
|  | 4.9, 10/15/1982 | 4.9, 2/13/1987, 52 FR 4620 | 4.9 Medford-Ashland CO Attainment Plan.
|  | 4.10, 4/1983 | 4.10, 8/15/1984, 49 FR 32574 | 4.10 Medford-Ashland TSP, Attainment Plan.
|  | 4.11, 10/24/1986 | 4.11, 1/15/1988, 53 FR 1020 | 4.11 Grants Pass CO, Attainment Plan.
|  | 4.12, 8/18/1995 | 4.12, 4/14/1997, 62 FR 18047 | 4.12 Klamath Falls PM-10 Attainment Plan.
|  | 4.13, 11/13/1991 | 4.13, 12/17/1993, 58 FR 65934 | 4.13 Grants Pass PM-10 Attainment Plan.
|  | 4.14, 9/9/2005 | 4.14, 6/19/2006, 71 FR 35163 | 4.14 Medford PM-10 Attainment and Maintenance Plan.
|  | 4.15, 11/8/1991 | 4.15, 2/15/1995, 60 FR 8563 | 4.15 La Grande PM-10 Attainment Plan.
|  | 4.16, 1/31/1991 | 4.16, 8/24/1994, 59 FR 43483 | 4.16 Eugene-Springfield PM-10 Attainment Plan.
|  | 4.17, 11/20/2000, (submittal date) | 4.17, 9/20/2001, 66 FR 48340 | 4.17 Klamath Falls CO Maintenance Plan.
|  | 4.18, 11/4/1996 | 4.18, 3/15/1999, 64 FR 12751 | 4.18 Oakridge PM-10 Attainment Plan.
|  | 4.19, 6/1/1995, (submittal date) | 4.19, 9/21/1999, 64 FR 51051 | 4.19 Lakeview PM-10 Attainment Plan.
|  | 4.50, 8/14/1996 | 4.50, 5/19/1997, 62 FR 27204 | 4.50 Portland/Vancouver Ozone Maintenance Plan.
|  | 4/12/2007 | 12/19/2011, 76 FR 78571. | Portland-Vancouver AQMA (Oregon portion) & Salem Kaizer Area 8-hour Ozone (110(a)(1) Maintenance Plan.
|  | 4.51, 7/12/1996 | 4.51, 9/2/1997, 62 FR 46208 | 4.51 Portland CO Maintenance Plan.
|  | 4.52, 3/9/2001 | 4.52, 7/24/2002, 67 FR 48388 | 4.52 Medford CO Maintenance Plan.
|  | 4.53, 9/10/1999 | 4.53, 8/31/2000, 65 FR 52932 | 4.53 Grants Pass CO Maintenance Plan.
|  | 4.55, 10/4/2002 | 4.55, 10/27/2003, 68 FR 61111 | 4.55 Grants Pass PM-10 Maintenance Plan.
|  | 4.56, 10/4/2002 | 4.56, 10/21/2003, 68 FR 60036 | 4.56 Klamath Falls PM-10 Maintenance Plan.
|  | 4.57, 6/28/2007 | 4.57, 12/30/2008, 73 FR 79655 | 4.57 Salem-Keizer Area CO, Limited Maintenance Plan.
|  | 4.58, 12/15/2004 | 4.58, 1/24/2006, 71 FR 3768 | 4.58 Portland Area CO Maintenance Plan 2nd 10-year.
|  | 4.59, 9/9/2005 | 4.59, 6/19/2006, 71 FR 35161 | 4.59 La Grande PM10 Maintenance Plan.
|  | 4.60, 9/9/2005 | 4.60, 6/19/2006, 71 FR 35159 | 4.60 Lakeview PM10 Maintenance Plan.
|  | 4.61, 9/26/2011 | 4.61, 4/11/2013, 78 FR 21547 | 4.61 Eugene-Springfield PM10 Limited Maintenance Plan.
Section 5 | Control Strategies for Attainment and Nonattainment Areas | 5, 4/25/1986 | 5, 7/30/1991, 56 FR 36006 |
|  | 5.1, 1/14/1983 | 5.1, 5/18/1983, 48 FR 22298 | 5.1 Statewide Control Strategies for Lead.
|  | 5.2, 5/3/2002 | 5.2, 3/15/2005, 70 FR 12587 | 5.2 Visibility Protection Plan.
|  | 5.3, 4/25/1986 | 5.3, 7/30/1991, 56 FR 36006 | 5.3 Prevention of Significant Deterioration.
|  | 5.4, 10/24/2003 | 5.4, 11/27/2004, 69 FR 67819 | 5.4 Motor Vehicle Inspection and Maintenance.
|  | 12/9/2010 | 7/5/2011, 76 FR 38997 | Oregon Regional Haze Plan—Section 308.
Section 6 | Ambient Air Quality Monitoring Program | 1/1986 | 7/30/1991, 56 FR 36006 | 6.1 Air Monitoring Network. 6.2 Data Handling and Analysis Procedures. 6.3 Episode Monitoring.
Section 7 | Emergency Action Plan | 1/1986 | 7/30/1991, 56 FR 36006
Section 8 | Public Involvement | 1/1986 | 7/30/1991, 56 FR 36006
Section 9 | Plan Revisions and Reporting | 1/1986 | 7/30/1991, 56 FR 36006

Oregon Administrative Rules, Approved But Not Incorporated by Reference
State citation | Title/subject | State effective date | EPA approval date | Explanations
Division 11—Rules of General Applicability and Organization
011-0005 | Definitions | 3/20/2008 | 4/25/2013, 78 FR 24347
011-0009 | Incorporation of Attorney General's Uniform and Model Rules | 3/20/2008 | 4/25/2013, 78 FR 24347
011-0510 | Agency Representation by Environmental Law Specialist | 3/20/2008 | 4/25/2013, 78 FR 24347
011-0515 | Authorized Representative of Respondent other than a Natural Person in a Contested Case Hearing | 3/20/2008 | 4/25/2013, 78 FR 24347
011-0573 | Proposed Orders in Contested Cases | 3/20/2008 | 4/25/2013, 78 FR 24347
011-0575 | Review of Proposed Orders in Contested Cases | 3/20/2008 | 4/25/2013, 78 FR 24347
Division 12—Enforcement Procedure and Civil Penalties
012-0026 | Policy | 5/13/2005 | 4/25/2013, 78 FR 24347
012-0027 | Rule Effective Date | 3/26/2006 | 4/25/2013, 78 FR 24347
012-0028 | Scope of Applicability | 5/13/2005 | 4/25/2013, 78 FR 24347
012-0030 | Definitions | 11/10/2008 | 6/20/2013, 78 FR 37124
012-0038 | Warning Letters, Pre-Enforcement Notices and Notices of Permit Violation | 11/10/2008 | 6/20/2013, 78 FR 37124
012-0041 | Formal Enforcement Action | 5/13/2005 | 4/25/2013, 78 FR 24347
012-0042 | Determination of Base Penalty | 5/13/2005 | 4/25/2013, 78 FR 24347
012-0045 | Civil Penalty Determination Procedure | 5/13/2005 | 4/25/2013, 78 FR 24347
012-0145 | Determination of Aggravating or Mitigating Factors | 5/13/2005 | 4/25/2013, 78 FR 24347
012-0150 | Determination of Economic Benefit | 5/13/2005 | 4/25/2013, 78 FR 24347
012-0053 | Violations that Apply to all Programs | 3/26/2006 | 4/25/2013, 78 FR 24347
012-0054 | Air Quality Classification of Violations | 3/15/2011 | 6/20/2013, 78 FR 37124
012-0073 | Environmental Cleanup Classification of Violation | 3/26/2006 | 4/25/2013, 78 FR 24347
012-0082 | Contingency Planning Classification of Violations | 3/26/2006 | 4/25/2013, 78 FR 24347
012-0130 | Determination of Violation Magnitude | 3/26/2006 | 4/25/2013, 78 FR 24347
012-0135 | Selected Magnitude Categories | 3/26/2006 | 4/25/2013, 78 FR 24347
012-0140 | Determination of Base Penalty | 3/15/2011 | 6/20/2013, 78 FR 37124
012-0155 | Additional or Alternate Civil Penalties | 11/10/2008 | 6/20/2013, 78 FR 37124
012-0160 | Department Discretion Regarding Penalty Assessment | 3/13/2005 | 4/25/2013, 78 FR 24347
012-0162 | Inability to Pay the Penalty | 3/13/2005 | 4/25/2013, 78 FR 24347
012-0165 | Stipulated Penalties | 3/13/2005 | 4/25/2013, 78 FR 24347
012-0170 | Compromise or Settlement of Civil Penalty by Department | 11/10/2008 | 6/20/2013, 78 FR 37124
Division 200—General Air Pollution Procedures and Definitions.
Conflicts of Interest
200-0100 | Conflicts of Interest | 7/1/2001 | 1/22/2003, 68 FR 2891
200-0110 | Conflicts of Interest | 7/1/2001 | 1/22/2003, 68 FR 2891
200-0120 | Conflicts of Interest | 7/1/2001 | 1/22/2003, 68 FR 2891
Division 262—Heat Smart Program for, Residential Woodstoves and Other Solid Fuel Heating Devices.
262-0050 | Residential Woodheating—Civil Penalties | 10/14/1999 | 1/22/2003, 68 FR 2891

City and County Ordinances
Agency and ordinance | Title or subject | Date | EPA approval date | Explanation
Codified Ordinances of Jackson County | 1810.09 | 12/20/1989 | 6/19/2006, 71 FR 35163
Codified Ordinances of Jackson County | 1810.99 | 10.29.2003 | 6/19/2006, 71 FR 35163
Code of the City of Medford, Oregon | 7.226 | 11/20/1989 | 6/19/2006, 71 FR 35163
Code of the City of Medford, Oregon | 7.300 | 4/6/2000 | 6/19/2006, 71 FR 35163
City of Central Point Municipal Code | 8.04.100 | 1966 | 6/19/2006, 71 FR 35163
City of Central Point Municipal Code | 8.04.110 | 1966 | 6/19/2006, 71 FR 35163
City of Central Point Municipal Code | 8.04.120 | 1966 | 6/19/2006, 71 FR 35163
City of Central Point Municipal Code | 8.04.130 | 1966 | 6/19/2006, 71 FR 35163
City of Central Point Municipal Code | 8.04.140 | 1966 | 6/19/2006, 71 FR 35163
City of Central Point Municipal Code | 8.04.150 | 1995 | 6/19/2006, 71 FR 35163
City of Ashland Municipal Code | 10.30.050 | 1993 | 6/19/2006, 71 FR 35163
City of Ashland Municipal Code | 9.24.060 | 1998 | 6/19/2006, 71 FR 35163

Lane County Regional Air Pollution Authority Regulations, Approved But Not Incorporated by Reference
LRAPA citation | Title/subject | State effective date | EPA approval date | Explanations
Title 15 | Enforcement Procedure and Civil Penalties | 6/13/1995 | 8/22/2001, 66 FR 40616

EPA Approved Oregon State Directive
State citation | Title/subject | State effective date | EPA approval date | Explanations
Directive 1-4-1-601 | Operational Guidance for the Oregon Smoke Management Program | 10/23/1992 | 11/1/2001, 66 FR 55112

EPA Approved Manuals
Name | Adoption date | State effective date | EPA approval date | Explanations
Sampling Manual | 1/23/1992 | 1/23/1992 | 6/4/1993, 58 FR 31654 | Volumes 1 and 2, Adopted by Oregon Environmental Quality Commission.
Continuous Monitoring Manual | 1/23/1992 | 2/4/1992 | 6/4/1993, 58 FR 31654 | Adopted by Oregon Environmental Quality Commission.

Supplementary Documents
State citation | Title/subject | State effective date | EPA approval date | Explanations
Oregon SIP Volume 2, Section 5.4 | Test Procedures and Standards | 10/24/2003 | 11/22/2004, 69 FR 67819

4. Amend the newly designated § 52.1974 by revising the section heading and paragraph (a) to read as follows::

§ 52.1974 Original identification of plan section.

(a) This section identified the original “State of Oregon Clean Air Act Implementation Plan” and all revisions submitted by Oregon that were federally approved prior to September 1, 2013.

* * * * *

[FR Doc. 2013-29195 Filed 12-9-13; 8:45 am]

BILLING CODE 6560-50-P